DEPARTMENT OF EDUCATION

RIN 1855-ZA07

[CFDA: 84.215P]

Promise Neighborhoods Program

AGENCY: Office of Innovation and Improvement, Department of Education.

ACTION: Notice of final priorities, requirements, definitions, and selection criteria.

SUMMARY: The Secretary of Education (Secretary) announces priorities, requirements, definitions, and selection criteria under the legislative authority of the Fund for the Improvement of Education Program (FIE), title V, part D, subpart 1, sections 5411 through 5413 of the Elementary and Secondary Education Act of 1965, as amended (ESEA). The Secretary may use one or more of these priorities, requirements, definitions, and selection criteria for Promise Neighborhoods competitions for fiscal year (FY) 2011 and later years.

We take this action to focus Federal assistance on projects that are designed to create a comprehensive continuum of solutions, including education programs and family and community supports, with great schools at the center. The continuum of solutions must be designed to significantly improve the educational and developmental outcomes of children and youth, from birth through college and to a career. We intend that these projects support organizations that focus on serving high-need neighborhoods, have a strategy to build a continuum of solutions, and have the capacity to achieve results.

DATES: Effective Date: These priorities, requirements, definitions, and selection criteria are effective August 5, 2011.

FOR FURTHER INFORMATION CONTACT: Jane Hodgdon, U.S. Department of Education, 400 Maryland Avenue, SW., Room 4W220, Washington, DC 20202. Telephone: (202) 453-6615 or by e-mail: pn2011@ed.gov.

If you use a telecommunications device for the deaf (TDD), call the Federal Relay Service (FRS), toll free, at 1-800-877-8339.

SUPPLEMENTARY INFORMATION: Purpose of Program: The Promise Neighborhoods program is carried out under the legislative authority of the FIE, title V, part D, subpart 1, sections 5411 through 5413 of the ESEA (20 U.S.C. 7243-7243b). FIE supports nationally significant programs to improve the quality of elementary and secondary education at the State and local levels and to help all children meet challenging State academic content and student academic achievement standards.

The purpose of the Promise Neighborhoods program is to significantly improve the educational and developmental outcomes of children and youth in our most distressed communities, and to transform those communities by—

(1) Identifying and increasing the capacity of eligible organizations (as defined in this notice) that are focused on achieving results for children and youth throughout an entire neighborhood;

(2) Building a complete continuum of cradle-through-college-to-career solutions (continuum of solutions) (as defined in this notice) of both educational programs and family and community supports (both as defined in this notice), with great schools at the center. All solutions in the continuum of solutions must be accessible to children with disabilities (CWD) (as defined in this notice) and English learners (ELs) (as defined in this notice).

(3) Integrating programs and breaking down agency “silos” so that solutions are implemented effectively and efficiently across agencies;

(4) Developing the local infrastructure of systems and resources needed to sustain and scale up proven, effective solutions across the broader region beyond the initial neighborhood; and

(5) Learning about the overall impact of the Promise Neighborhoods program and about the relationship between particular strategies in Promise Neighborhoods and student outcomes, including through a rigorous evaluation of the program.

Applicable Program Regulations: The Education Department General Administrative Regulations (EDGAR) in 34 CFR Parts 74, 75, 77, 79, 80, 81, 82, 84, 85, 86, 97, 98, and 99.

We published a notice of proposed priorities, requirements, definitions, and selection criteria in the Federal Register on March 10, 2011 (76 FR 13152) (NPP). That notice contained background information and our reasons for proposing the particular priorities, requirements, definitions, and selection criteria.

There are differences between the proposed priorities, requirements, definitions, and selection criteria in the NPP and these final priorities, requirements, definitions, and selection criteria, as discussed in the Analysis of Comments and Changes section elsewhere in this notice. Public Comment: In response to our invitation in the NPP, 37 parties submitted comments on the proposed priorities, requirements, definitions, and selection criteria.

Generally, we do not address technical and other minor changes. In addition, we do not address general comments that raised concerns not directly related to the proposed priorities, requirements, definitions, and selection criteria.

Analysis of Comments and Changes: An analysis of the comments and of any changes in the proposed priorities, requirements, definitions, and selection criteria since publication of the NPP follows.

Note about General Comments and Comments Outside the Scope of the NPP: We received many comments expressing general support or making general recommendations for this program. In most cases, these general comments and recommendations were similar to the comments that supported specific provisions or made specific recommendations for the program's proposed priorities, requirements, definitions, or selection criteria, which we discuss in the sections that follow. We, therefore, do not include a separate discussion of the general comments and recommendations.

We also received a number of comments relating to issues that may have been discussed in communications from the Department or in the application and review process for the FY 2010 Promise Neighborhoods competition, but were not proposed as part of the NPP. These issues include: The length of discretionary grant periods, the application process, and technical assistance for applicants. We do not address comments on these issues here. We note, however, that information on these issues will be made available through other Department documents, including the notice inviting applications for this program.

General

Comment: Two commenters made recommendations and requested clarification regarding whether implementation grantees must use funds for developing the administrative capacity of the eligible organization or whether they could use the funds to provide solutions for children and youth in the neighborhood. One commenter recommended that the Department provide maximum flexibility for applicants to determine how the funds are to be used and not require that funds be used to develop administrative capacity. Another commenter requested greater clarification about the percentage of implementation grant funds that could be used to develop administrative capacity, on the one hand, and to provide solutions for children and youth, on the other.

Discussion: The Department expects implementation grantees to use grant funds for two primary purposes: (1) To develop the administrative capacity necessary to successfully implement a continuum of solutions; and (2) to provide solutions within the continuum of solutions to children and youth in the neighborhood. We anticipate that a majority of implementation grant funds would be used to develop a grantee's administrative capacity and that other public and private sources would be used to provide solutions. However, we believe that each applicant is best positioned to determine the allocation of funds between the two purposes given its needs assessment and plans to build its organizational capacity.

Changes: None.

Comment: None.

Discussion: The Department seeks to clarify that Promise Neighborhoods planning and implementation grantees must take into consideration the unique needs of CWD, ELs, and their families in designing the planning process, conducting the needs assessment, identifying the continuum of services, and developing the implementation plan for Promise Neighborhoods.

Changes: The Department has revised language throughout the notice of final priorities to highlight the importance of considering the unique needs of CWD, ELs, and their families in the planning for and implementation of a continuum of services designed to improve academic outcomes for all children and youth. References can be found in paragraph (4) of Final Planning Priority 1 and Final Implementation Priority 1, Final Planning Priority 4 and Final Implementation Priority 4, and the definition of education programs. In addition, we have added definitions for both children with disabilities and English learners to the Final Definitions section of this notice. These definitions are consistent with how the terms are defined in the Individuals with Disabilities Education Act (IDEA), the ESEA, and section 504 of the Rehabilitation Act.

Priorities

Priorities—General for Final Planning Priorities and Final Implementation Priorities

Comment: Several commenters recommended that the Department not designate any priorities as competitive preference priorities. Two commenters recommended that if the Department designates priorities as competitive preference priorities, the number of competitive preference priorities to which an applicant may apply should be limited, or the competitive preference priorities should be used as tie breakers. Two of the commenters recommended designating priorities 4 through 8 as invitational priorities. Another commenter recommended eliminating priorities 4 through 8 altogether.

Discussion: The Promise Neighborhoods program encourages a comprehensive continuum of solutions that are designed to dramatically improve academic and developmental outcomes for all children and youth, in our country's most distressed communities, and to transform those communities. Because we believe that the following components of a comprehensive continuum of solutions can significantly improve academic and developmental outcomes, we have included them as priorities: Provision of high-quality comprehensive local early learning networks, quality internet connectivity, access to the arts and humanities, availability of quality affordable housing, and family engagement in learning through adult education. In a given competition, we may use one or more of these priorities to focus Federal funds on components most in need of support. The decision to use these priorities as absolute, competitive preference or invitational will be made on a competition-by-competition basis. We announce these designations and the scoring methodology in the notice inviting applications.

Changes: None.

Comment: Two commenters asked whether an applicant must meet Absolute Priority 1, Absolute Priority 2, or Absolute Priority 3, or whether an applicant could focus on only one priority among Priorities 4 through 8.

Discussion: Under 34 CFR 75.105(c)(3) we consider only applications that meet either Absolute Priority 1, Absolute Priority 2, or Absolute Priority 3. In order to be considered for funding under the Promise Neighborhoods program, an applicant must meet all of the requirements in the absolute priority that it chooses to address. We announce designations for other priorities in notices inviting applications.

Changes: None.

Comment: Two commenters expressed concerns that the absolute priorities for rural and tribal communities would disadvantage suburban communities. Another commenter recommended adding an absolute priority for small towns and mid-sized cities stating that these communities may have access to fewer resources than more urban areas.

Discussion: We included Absolute Priorities 2 and 3 to focus on rural areas and Indian tribes because of the unique and daunting challenges faced by these communities. In 2004, more than one-fifth of the Nation's nearly 2,000 “dropout factories,” in which the graduation rate is less than 60 percent, were located in rural areas (Balfanz, R., and Letgers, N., Locating the Dropout Crisis: Which High Schools Produce the Nation's Dropouts? Johns Hopkins University, 2004.)

Compared to white students, American Indian students have poorer academic outcomes and higher poverty rates (Institute for Education Sciences. Status and Trends in the Education of American Indians and Alaska Natives, 2008). American Indian and Alaska Native students, who could be among those served under Absolute Priority 3, have a graduation rate of less than 50 percent nationally (The Civil Rights Project. The Dropout/Graduation Crisis Among American Indian and Alaska Native Students: Failure to Respond Places the Future of Native Peoples at Risk, 2010). While we recognize the challenges faced by small towns and mid-sized cities, we decline to add an absolute priority focused on these communities because their challenges are not as severe as the challenges faced by students in rural and tribal communities.

Changes: None.

Final Planning Priority 1 and Final Implementation Priority 1

Geographic Area and Need

Comment: One commenter recommended that the Department require a neighborhood to have a child poverty rate of 50 percent or more in order to be eligible for a Promise Neighborhood grant. The commenter stated that this threshold would demonstrate the severity of need in the neighborhood.

Discussion: We agree with the commenter that a child poverty rate of 50 percent or more is an indicator of tremendous need in a neighborhood. However, poverty is only one indicator of need. Significant achievement gaps, the percentage of children with preventable health conditions, and the crime rate in a neighborhood could also be indicators of tremendous need. Applicants are in the best position to provide the information that is most relevant to establishing the need of the particular neighborhood that they propose to serve, and comprehensive information about indicators of need will allow us to make thoughtful and informed grant decisions in light of the level of distress in the neighborhood.

Changes: None.

Final Planning Priority 1 and Final Implementation Priority 1

Promise Neighborhood Plan

Comment: One commenter expressed concerns about the severity of the specific types of interventions required for applicants proposing to work with persistently lowest-achieving and low-performing schools, especially the turnaround interventions required by the Race to the Top (RTT) program.

Discussion: We require an applicant proposing to work with a persistently lowest-achieving school to include as part of its strategy one of the four school intervention models (turnaround model, restart model, school closure, or transformation model) described in Appendix C of the RTT notice inviting applications for new awards for FY 2010 that was published in the Federal Register on November 18, 2009 (74 FR 59836, 59866). While applicants working with low-performing schools may implement one of these four school intervention models, these applicants are not required to do so. They have the flexibility to implement any interventions that are sufficiently ambitious, rigorous, and comprehensive to significantly improve academic and other outcomes for all students.

We believe that the comprehensive education programs that Promise Neighborhoods grantees implement should be consistent with efforts to reform these schools carried out under other programs supported by the Department, such as the RTT and School Improvement Grants (SIG) programs.

Final Planning Priority 1 and Final Implementation Priority 1 provide for a structured yet flexible approach that is consistent with these programs.

Changes: None.

Comment: Two commenters expressed concerns and requested clarification regarding the entity that must implement school interventions. One commenter asked whether an applicant must implement the school interventions or whether another organization could implement the school interventions on its behalf. One commenter expressed concern that some charter schools may have difficulty forming partnerships with low-performing traditional public schools, and recommended that the Department eliminate the requirement that grantees serve at least one low-performing school or persistently lowest-achieving school.

Discussion: Promise Neighborhoods grantees are required to develop a complete continuum of cradle-through-college-to-career solutions over time in a neighborhood, and few if any single organization could directly implement all of the expected solutions within a complete continuum. For this reason, the program is designed to support applicants that partner with other organizations to provide this continuum of solutions. To clarify this, we are revising both Final Planning Priority 1 and Final Implementation Priority 1 to state that school interventions may be implemented by the applicant or one or more of its partners.

With regard to the comment recommending that the Department eliminate the requirement that grantees serve at least one low-performing school or persistently lowest-achieving school, we decline to make this change because we believe that Promise Neighborhoods must play an important role in turning around persistently-lowest achieving schools and improving low-performing schools.

Changes: We have revised both Final Planning Priority 1 and Final Implementation Priority 1, paragraph (2)(b) to clarify that the school interventions in the strategy or plan to build a continuum of solutions may be implemented by the applicant or one of its partners. We added “(or one or more of its partners)” to both Final Planning Priority 1 and Final Implementation Priority 1, paragraph (2)(b) in reference to the entity that must implement the school interventions.

Comment: One commenter recommended requiring the use of digital, multi-platform (e.g., public television, web-based, etc.) delivery models for early learning programs in the continuum of solutions.

Discussion: We believe that applicants are best positioned to determine the specific solutions and the implementation of those solutions that most effectively address neighborhood needs, and therefore, decline to require that all grantees use digital, multi-platform delivery models for early learning, as recommended by the commenter.

Changes: None.

Comment: One commenter recommended adding a new requirement within the education component of the continuum of solutions that focuses on family-school partnerships and family engagement in learning.

Discussion: Family and community support for learning is a critical component of Promise Neighborhoods. For example, as specified in Tables 1 and 2 in both Final Planning Priority 1 and Final Implementation Priority 1, family and community member support for learning is one of the 10 core program results in a Promise Neighborhood, and Priority 8 focuses on family engagement in learning through adult education. For this reason, we believe adding the requirement recommended by the commenter is unnecessary and therefore decline to add it.

Changes: None.

Comment: One commenter requested clarification regarding whether applicants are required to focus on children attending a target school or on all children in a neighborhood. The applicant asked whether students who attend a target school in the Promise Neighborhood, but live outside the neighborhood, could be served by a Promise Neighborhood project.

Discussion: We agree that clarification about the students who can receive the complete continuum of solutions under a Promise Neighborhoods grant would be helpful, especially in light of the variations in attendance zone and school choice policies in many communities. Therefore, we are revising both Final Planning Priority 1 and Final Implementation Priority 1 to clarify that the continuum of solutions must be designed to ensure that over time, (1) Children and youth in the neighborhood who attend the target school or schools have access to a complete continuum of solutions, and (2) as appropriate, children and youth in the neighborhood who do not attend the target school or schools have access to solutions within the continuum of solutions.

Changes: We have revised paragraph (2) in both Final Planning Priority 1 and Final Implementation Priority 1 to clarify that the plan or strategy must ensure that, over time, a greater proportion of children and youth in the neighborhood who attend the target school or schools have access to a complete continuum of solutions, and ensure that over time, a greater proportion of children in the neighborhood who do not attend the target school or schools have access to solutions within the continuum of solutions. The plan or strategy must also ensure that students not living in the neighborhood who do attend the target school or schools have access to solutions within the continuum of solutions.

Final Planning Priority 1 and Final Implementation Priority 1

Needs Assessment, Segmentation Analysis, and Indicators

Comment: A number of commenters recommended that we require additional results and indicators that focus on areas such as the arts, life-long learning opportunities, out-of-school learning activities, discipline referrals, access to learning materials, volunteer and community service, age-appropriate functioning for four-year-olds, regular school attendance, and access to primary care providers; or populations such as high school graduates who need remediation and students who participate in the child welfare system. One commenter asked the Department to clarify whether applicants have flexibility to substitute required indicators.

Discussion: Regarding the request that we require additional results and indicators on specific topics, grantees, in addition to being required to collect data for the needs assessment that includes education and family and community support program indicators prescribed by the Department, may also develop their own family and community support project indicators. These grantee-developed project indicators may focus on the areas and populations mentioned by the commenters. In addition, eligible applicants may use intermediate variables that are strongly correlated with the required program and project indicators. These intermediate variables may also include variables on the areas and populations mentioned by the commenters (e.g., immunization rates could be an intermediate variable with regard to the result that students are healthy). While we recognize the importance of the topics mentioned by the commenters, we believe providing flexibility to grantees to select indicators is more appropriate than requiring additional specific indicators. In response to the request for clarification, applicants are not allowed to substitute required indicators for this program. Our framework allows for flexibility and ensures that Promise Neighborhood projects across the country are comprehensive in their approach and can be evaluated in a consistent manner by using the set of required indicators.

Changes: None.

Comment: Two commenters recommended changing one of the indicators related to family and community support of learning. Specifically, the commenters recommended that the indicator regarding the number and percent of parents or family members who report that they read to their child three or more times a week begin at the birth of the child, not when the child turns six months, to encourage good habits from the very beginning of a child's life.

Discussion: We agree with the commenter about the importance of reading to children very early in their lives and, therefore, are revising the indicator to focus on children from birth to kindergarten entry, instead of six months to kindergarten entry.

Changes: In both Final Planning Priority 1 and Final Implementation Priority 1, in the indicators found in Table 2, which measures the number and percent of family members who report that they read to their child three or more times a week, we have replaced “six months to kindergarten entry” with “birth to kindergarten entry.”

Comment: One commenter recommended changing the indicator related to students who are healthy. Specifically, the commenter recommended separating the indicator into an indicator for the number and percent of children who participate in at least 60 minutes of exercise and an indicator for the number and percent of children who consume five or more servings of fruits and vegetables daily. According to the commenter, this would allow grantees to demonstrate progress in achieving changes in diet, exercise, or both.

Discussion: We agree with the commenter that disaggregating the data for this indicator would provide more valuable data for the grantees and the community. We, therefore, are revising the indicator accordingly.

Changes: In both Final Planning Priority 1 and Final Implementation Priority 1, we have revised the indicator related to students who are healthy by creating two separate indicators: (1) The number and percent of children who participate in at least 60 minutes of moderate to physical activity daily, and (2) the number and percent of children who consume five or more servings of fruits and vegetables daily.

Comment: Three commenters requested clarification and additional information regarding how the Department defines specific terms used in the indicators. One commenter asked how the Department defines “access to broadband internet.” Another commenter asked for clarification regarding the frequency and “dosage” of several indicators, including the indicator for parents encouraging their children to read books. A third commenter requested additional information about the definition of “medical home,” as it relates to the “students are healthy” result.

Discussion: We agree with the commenters that greater clarification and specificity regarding some of the terms used in the indicators could ensure more consistent data collection across the Promise Neighborhoods grantees. The Department anticipates contracting with a national evaluator or other entity to provide technical assistance to Promise Neighborhoods grantees for data collection and to develop data definitions. It is our goal, at a minimum, to make that technical assistance available on the Promise Neighborhoods program Web site for use by grantees, applicants, and other organizations.

Changes: None.

Final Planning Priority 1 and Final Implementation Priority 1

Experience, Lessons Learned, Capacity Building, and Data System

Comment: Several commenters recommended adding more explicit references to the inclusion of parents and family members in applicants' descriptions of their experiences and lessons learned, and how applicants will build capacity, including in collecting, analyzing, and using data. Some commenters recommended requiring applicants to describe their experiences and plans to work with the neighborhood and its residents, including parents and families. The commenters recommended that applicants describe their experience and plans to make Promise Neighborhoods data accessible to parents, families, and community residents, in addition to program partners, researchers, and evaluators.

Discussion: We agree that systemic family and community engagement is a critical component of school reform and neighborhood revitalization in Promise Neighborhoods. Therefore, we are adding more specific references to family and community involvement in the planning and implementation process to elevate their role in the program.

Changes: We have revised paragraph (4)(a) and (b)(ii) of Final Planning Priority 1 and Final Implementation Priority 1 to require applicants to describe their experience and plans to work with parents and families, including families with children or other family members with disabilities or ELs, during planning and implementation, as well as to share data with parents and families.

Comment: Two commenters recommended adding specific individuals and entities as required partners and members of the governing or advisory board for a Promise Neighborhoods project. One commenter recommended requiring applicants to work in partnership with community organizations, local businesses, and other entities that have the capacity to contribute to a partnership and that have a proven track record as a partner. Another commenter recommended requiring the involvement of parents and families on the Promise Neighborhoods governing board or advisory board.

Discussion: The individuals and entities described by the commenters may very well be appropriate partners or board members for a Promise Neighborhoods project. We believe that the requirements for board membership and partners are sufficiently prescriptive to foster a successful Promise Neighborhood project, but broad enough to allow applicants, who are best positioned to select their partners and board members, the flexibility to choose the board members and partners that they believe can best meet the needs of the neighborhood they propose to serve.

Changes: None.

Comment: One commenter requested clarification regarding whether a partner's financial and programmatic commitments, as described in the memorandum of understanding, may include in-kind commitments. The commenter noted that some partners, such as schools, would not be able to contribute resources other than in-kind supports.

Discussion: A partner's financial and programmatic commitments may include in-kind commitments. Additional information on matching funds, including in-kind contributions, can be found under the cost-sharing and matching section of this notice, and in the Department's regulations at 34 CFR 74.23 and 80.24.

Changes: None.

Comment: One commenter recommended that the Department require solutions that are culturally appropriate for residents in the neighborhood.

Discussion: As included in the background section of the NPP, one of the activities for planning grantees is to develop a plan and build community support for and involvement in the development of the plan. In addition, significant community involvement is required with regard to the governing board's or advisory board's decision-making and is integral to the planning and implementation process, as shown by the focus on family and community supports. Moreover, we define developmentally appropriate early learning measures to mean, in part, that the measures are designed and validated for use with children whose ages, cultures, languages spoken at home, socioeconomic status, abilities and disabilities, and other characteristics are similar to those of the children with whom the assessments will be used. We believe these provisions help to ensure that the continuum of solutions in a Promise Neighborhood meet the needs of and are linguistically and culturally appropriate for neighborhood residents, including ELs and CWD. In addition, we believe increasing the emphasis on community involvement in the development of the plan will increase the assurance that solutions are culturally appropriate and relevant for neighborhood residents.

Changes: We have revised paragraph (2) of Final Planning Priority 1 and Final Implementation Priority 1 to clarify that one of the required activities during the planning phase is to build community support for and involvement in the development of the plan.

Final Planning Priority 1 and Final Implementation Priority 1

Evaluation

Comment: Several commenters requested clarification and made recommendations regarding the evaluation process. One commenter asked for information about the process the Department will use in selecting a national evaluator and the timing of that selection. Three commenters requested clarification and made recommendations regarding components of the evaluation, including the use of comparison groups. A final commenter requested clarification regarding whether Promise Neighborhood grant funds could be used to conduct the evaluation and needs assessments, including for the early learning indicators.

Discussion: The Department anticipates contracting with a national evaluator or other entity to provide technical assistance to Promise Neighborhoods grantees for data collection and to create the conditions for a rigorous national evaluation. We expect grantees to work with the Department and with the national evaluator or other entity to ensure that data collection and program design are consistent with plans to conduct a rigorous national evaluation of the Promise Neighborhoods program and are adding this as a requirement in Final Planning Priority 1 and Final Implementation Priority 1. The Department expects to award a contract for this work through a process that is separate from the awarding of planning and implementation grants. The timing and design of the evaluation is currently under development. With regard to the comment about the use of Promise Neighborhoods grant funds, activities conducted by grantees related to evaluations and needs assessments are allowable uses of Promise Neighborhoods grant funds.

Changes: We have revised paragraph (5) of both the Final Planning Priority 1 and Final Implementation Priority 1 to clarify that applicants must describe their commitment to work with the Department and with a national evaluator for Promise Neighborhoods or another entity designated by the Department.

Comment: One commenter recommended that the Department require Promise Neighborhoods applicants to describe how they will engage institutions of higher education (IHEs) in research and evaluation.

Discussion: While IHEs may bring tremendous resources to a Promise Neighborhoods project, including in the areas of research and evaluation, we do not believe the recommended change is needed in order for IHEs to become involved in a Promise Neighborhoods project. IHEs are eligible, on their own, to apply for a Promise Neighborhood grant. Moreover, beyond requiring an applicant to coordinate with a public elementary and secondary school located in the geographic area it proposes to serve, we believe that applicants are best positioned to determine their partners.

Changes: None.

Final Planning Priority 4 and Final Implementation Priority 4

Comprehensive Local Early Learning Network

Comment: Several commenters made recommendations and expressed concerns about references to specific early learning settings in both Final Planning Priority 4 and Final Implementation Priority 4—Comprehensive Local Early Learning Network. One commenter recommended that we add a separate competitive preference priority to encourage formal coordination between Promise Neighborhoods and the Head Start and Early Head Start programs. Another commenter recommended explicitly including private child care providers in Final Planning Priority 4 and Final Implementation Priority 4. Yet another commenter expressed concern that the requirement to integrate formal early education and care in a Promise Neighborhoods project may not be realistic given cutbacks in funding for early education at the Federal and State levels.

Discussion: Final Planning Priority 4 and Final Implementation Priority 4 encourage proposals and plans that include Head Start and Early Head Start. We do not believe that a separate priority is necessary to coordinate with Head Start because the priorities already include Head Start programs as one of the early learning services. The Department continues to work with other Federal agencies, including the Department of Health and Human Services, to identify additional opportunities to align programs, including through the Race to the Top—Early Learning Challenge program.

With regard to the recommendation to include private child care providers in Priority 4, we agree that private child care providers should be included in both Final Planning Priority 4 and Final Implementation Priority 4 and are making this change accordingly.

Although the Department recognizes that the current fiscal climate may constrain Federal, State, and local financial support for early learning, we expect applicants to propose early learning networks that work across existing funded programs in a variety of early learning settings, including formal care (school-based or private providers) and family, friend, or neighbor care that is currently operating in the neighborhood. This important work to improve quality in existing programs has the potential to improve short-term and long-term educational and developmental outcomes for students.

Changes: We have revised both Final Planning Priority 4 and Final Implementation Priority 4 to include “child care providers licensed by the State, including public and private providers and center-based care” among the list of early learning services and programs that applicants can propose to coordinate in its Promise Neighborhood.

Comment: None.

Discussion: After internal review, we determined that the requirement that proposals include various early learning services and programs should be clarified to increase the emphasis on service and program integration focused on enhancing quality.

Changes: We have revised the language in Final Planning Priority 4 and Final Implementation Priority 4 to clarify that proposals integrate various early learning services and programs to enhance the quality of those services and programs.

Comment: Two commenters recommended requiring applicants who address Priority 4 to focus on early literacy and numeracy skills for young people.

Discussion: We agree that early literacy and numeracy are critical areas of cognitive development for young children. Paragraph (2)(a) of Final Planning Priority 1 and paragraph (2)(a)(i) of Final Implementation Priority 1 require applicants to include in their continuum of solutions high-quality learning programs and services designed to improve outcomes across multiple domains of early learning. Although we define multiple domains of learning to include language and literacy development, as well as cognition and general knowledge, including mathematical knowledge, we believe Final Planning Priority 4 and Final Implementation Priority 4 should more explicitly reference the multiple domains of early learning and are changing the language in Priority 4 accordingly.

Changes: We have revised the second sentence in Final Planning Priority 4 and Final Implementation Priority 4 for both planning and implementation grants, which relates to an applicant's plan for a comprehensive local learning network, to focus on improving outcomes across multiple domains of early learning. As defined in this notice, the term “multiple domains of early learning” includes early literacy and numeracy.

Comment: One commenter recommended expanding Final Planning Priority 4 and Final Implementation Priority 4 to ensure that the early learning network includes innovative digital programs available on multiple platforms (e.g., public television, web-based) and in multiple locations (e.g., at home, at school, and at other community locations).

Discussion: The Department believes that early learning programs offer a significant opportunity to provide accessible, digital programming to young children and their families and that we should reference such opportunities in Final Planning Priority 4 and Final Implementation Priority 4 to create an incentive for applicants to innovate in this area. We, therefore, are revising the priorities to require that an applicant's proposal or plan for a comprehensive early learning network describe how the project will provide, to the extent practicable, early learning opportunities on multiple platforms and in multiple locations (e.g., at home, at school, and at other community locations). These early learning opportunities must be fully accessible to individuals with disabilities, including individuals who are blind or have low vision; otherwise, the plans must describe how accommodations or modifications will be provided to ensure that the benefits of the early learning opportunities are provided to individuals with disabilities in an equally effective and equally integrated manner.

Changes: We have added language to Final Planning Priority 4 and Final Implementation Priority 4 to clarify that the plan must describe how the project will provide, to the extent practicable, accessible early learning opportunities on multiple platforms (e.g., public television, web-based) and in multiple locations (e.g., at home, at school, and at other community locations).

Comment: One commenter recommended that the Department acknowledge the two distinct time periods within the early learning portion of the continuum—birth to preschool and kindergarten through the third grade. The commenter recommended that we give applicants addressing Final Planning Priority 4 and Final Implementation Priority 4 the flexibility to address the early learning continuum in stages, rather than all at once.

Discussion: We believe that it is important to maintain the focus on a comprehensive and continuous early learning network from birth through third grade rather than distinguishing two separate periods. Without a comprehensive focus on early learning, there is a risk of fragmentation of work and results. However, as we discuss in the response to comments related to Planning Grant Priority 1, we are revising paragraph (2) in both Planning Priority 1 and Implementation Priority 1 to require applicants to describe how they will plan to ensure that the children have, over time, access to the complete continuum of solutions.

Changes: None.

Comment: Two commenters noted that the qualifications for early learning personnel vary by State and requested clarification about the necessary qualifications for the individual responsible for overseeing and coordinating the early learning initiatives.

Discussion: Considering the variation in State early learning certifications, we do not believe additional specificity about the types of certification is appropriate in this program.

Changes: None.

Comment: None.

Discussion: After internal review, we determined that the requirement that the applicant designate an individual to oversee and coordinate the early learning initiatives and provide applicable documentation should be clarified to ensure that the individual has experience with “high-quality” programs and services.

Changes: We have revised the language in Final Planning Priority 4 and Final Implementation Priority 4 to clarify that the documentation the applicant provides must demonstrate that the individual designated to oversee the early learning initiatives or the individual hired to carry out those responsibilities possesses the appropriate State certification and has experience and expertise in managing and administering high-quality early learning programs, including in coordinating across various high-quality early learning programs and services.

Final Planning Priority 5 and Final Implementation Priority 5

Quality Internet Connectivity

Comment: One commenter recommended that the Department create an absolute priority focused on developing programs that promote student engagement, learning, and digital literacy, as well as neighborhood communication and networking, via access to broadband internet and digital television.

Discussion: Broadband internet access is a critical learning tool to prepare students for college and careers in the digital age, which is why we included it as a priority. We believe this priority will create an incentive for applicants to expand access to broadband internet, which will create the conditions for engagement, learning, and digital literacy, as well as neighborhood communication and networking. The decision to use this priority as absolute, competitive preference or invitational will be made on a competition-by-competition basis. For each competition, we announce these designations in the notice inviting applications.

Since June 13, 2009, all full-power U.S. stations have broadcast digital-only signals; we do not believe further incentive is needed to encourage use of digital television. Therefore, we did not include digital television as part of Final Planning Priority 5 or Final Implementation Priority 5.

Changes: None.

Final Planning Priority 7 and Final Implementation Priority 7

Quality Affordable Housing

Comment: Two commenters recommended that the Department expand Final Planning Priority 7 and Final Implementation Priority 7 to include applicants that have submitted an application through Choice Neighborhoods or Hope VI, or that are working on affordable housing generally, rather than restricting the priority to applicants that have been awarded grants under the Choice Neighborhoods or HOPE VI program by the U.S. Department of Housing and Urban Development.

Discussion: Applicants that were the subject of an affordable housing transformation pursuant to a Choice Neighborhoods or HOPE VI grant awarded by the U.S. Department of Housing and Urban Development during FY 2009 or later years may address Final Planning Priority 7 and Final Implementation Priority 7. We are limiting the priority to applicants that have undergone or are undergoing this affordable housing transformation supported by Choice Neighborhoods or a HOPE VI grant because these applicants have met evidence-based criteria as determined by HUD and will be ready to integrate quality, affordable housing into their Promise Neighborhood. Moreover, focusing the priority in this manner supports the goal of Promise Neighborhoods to break down agency “silos” at the Federal and local levels, by aligning investments from the Promise Neighborhoods and Choice Neighborhoods or HOPE VI programs. While we decline to expand the priority 7 to include applicants who have applied for but not received a Choice Neighborhoods or Hope VI grant, we want to point out that applicants working on affordable housing generally in their neighborhood may also identify a housing solution to address the “students live in stable communities” result described in Final Planning Priority 1 and Final Implementation Priority 1, so long as the solution otherwise meets the requirements in this notice.

Changes: None.

Final Planning Priority 8 and Final Implementation Priority 8

Family Engagement in Learning Through Adult Education

Comment: One commenter recommended that the Department be more explicit about the connection between adult education and family engagement in Final Planning Priority 8 and Final Implementation Priority 8. Specifically, the commenter recommended that these priorities be revised to put a greater emphasis on parent and family partnerships to support improving educational outcomes.

Discussion: The Department acknowledges the importance of family engagement in education and learning. We believe that Final Planning Priority 8 and Final Implementation Priority 8 sufficiently address this issue by focusing on coordinated services, which may include programs that provide training and opportunities for family members to support student learning.

Changes: None.

Implementation Grant Priority 1

Continuum of Solutions

Comment: Several commenters made recommendations and requested guidance regarding the timeline for developing the continuum of solutions. Another commenter requested guidance about how many solutions should be implemented in year one and over time. Two commenters recommended that the Department require applicants for implementation grants to provide information on their startup and “phasing” strategy to build the continuum of solutions.

Discussion: Because implementation grantees will build a complete continuum over time, we agree that we should be more explicit about requiring an implementation applicant to include in its proposal its strategy for developing the continuum. We are adding language in Implementation Priority 1 to make this clear. We believe that applicants are best positioned to determine the timing of the phasing strategy to build the continuum of solutions, and therefore, decline to provide guidance on how many solutions should be implemented in year one and over time.

Changes: We have revised Implementation Priority 1 to require applicants to describe in an appendix to the application how and when during the implementation process the solution will be made available to children and youth in the geographic area to be served.

Comment: Several commenters requested clarification and expressed concerns about the expected “penetration rate” of solutions, that is, the percentage of all children of the same group within the neighborhood proposed to be served by each solution. Another commenter requested clarification and guidance about setting benchmarks for penetration rates. One commenter expressed concern regarding the requirement that implementation applicants ensure that each child in the neighborhood receives appropriate services. The commenter recommended that applicants be encouraged to emphasize their plans for growth in the penetration rate over time.

Discussion: Based on the needs assessment and segmentation analysis, an applicant may determine that not every child in the neighborhood needs every solution in its continuum of solutions. Moreover, a 100 percent penetration rate for children and youth in the neighborhood receiving solutions is difficult, if not impossible, to achieve, especially in year one of implementation. We believe that applicants will be best positioned to determine the penetration rate of solutions and, therefore, decline to provide guidance on benchmarks for the penetration rate of solutions. However, we believe it would be helpful to require applicants for implementation grants to describe their annual goals for increasing the penetration rate over time and are changing Final Implementation Priority 1 accordingly.

Changes: We have revised paragraph (3) of Final Implementation Priority 1 to clarify that implementation applicants must describe how they will ensure that children in the neighborhood receive the appropriate services. While not necessarily every child will receive services, specific groups of children (i.e., CWD and ELs) must not be excluded from the plan. We have also revised paragraph (2) of Final Implementation Priority 1 to require implementation applicants to describe their goals to increase the penetration rate over time.

Comment: Two commenters recommended that the Department acknowledge the long-term nature of the work required to transform neighborhoods. Specifically, they stated that the ultimate success of Promise Neighborhoods will require the use of both short-term and long-term goals to measure progress.

Discussion: We agree that the difficult work of dramatically improving the quality of education and transforming distressed neighborhoods demand both a sense of urgency and sufficient time to implement change properly. Given this reality, it is important to measure success using short-term and long-term goals.

Changes: We have revised paragraph (2) of Final Implementation Priority 1 to acknowledge that, considering the time and urgency required to dramatically improve outcomes of children and youth in our most distressed neighborhoods and to transform those neighborhoods, an applicant must establish both short-term and long-term goals against which it will measure its progress.

Comment: One applicant expressed concern that reviewers would use per-child cost estimates for providing solutions to make comparisons among applicants and to make scoring decisions.

Discussion: The Department directs peer reviewers to score applications against the established selection criteria and not to make comparisons among and between applications.

Changes: None.

Comment: One commenter expressed concern with the requirement that implementation applicants establish annual goals for improving systems, such as changes in policies, environments, or organizations that affect children and youth in the neighborhood. The commenter stated that setting annual goals for improving systems can be distracting to the short-term work that must happen in the neighborhood.

Discussion: Changes in the neighborhood and systems change may happen concurrently. Alignment of the Promise Neighborhoods strategy with a local educational agency's (LEA) school turnaround effort supported by SIG funds in neighborhood schools is an example of an annual goal for improving systems that may directly support short-term work that must happen in the neighborhood.

Changes: None.

Implementation Grant Priority 1

Needs Assessment, Segmentation Analysis, and Indicators

Comment: None

Discussion: After internal review, we noted that the NPP encouraged, but did not require implementation applicants to describe how they collected data for educational and family and community support indicators. We intend to require applicants to describe their data collection process because data collection is a critical component of a successful Promise Neighborhood.

Changes: We changed “should” to “must” to specify that an applicant for an implementation grant is required to describe how it collected data for educational and family and community support indicators.

Comment: One commenter recommended that we require applicants to describe how the implementation of solutions will work at the individual level. The commenter also recommended that the Department require applicants to describe how they will help children, youth, and families navigate multiple public systems and obtain the full benefits of the continuum of solutions.

Discussion: An implementation applicant will be required to describe how it is using its needs assessment and segmentation analysis to ensure that children in the neighborhood receive appropriate services from the continuum of solutions. An effective needs assessment and segmentation analysis will create the conditions for effective targeting and service delivery that meet the individual needs of residents, and thus reduce the need for the residents to navigate multiple public systems. Therefore, we do not believe it is necessary to include the additional requirement recommended by the commenter.

Changes: None.

Comment: One commenter recommended that implementation applicants be required only to demonstrate that they have collected data on a majority of the indicators and that they be allowed to identify indicators for which they will have the data in hand by the end of the planning or early implementation phase. Another commenter expressed concerns about the financial and time costs of collecting the required data.

Discussion: Implementation applicants are required to describe how they collected data on the indicators described in Table 1 and Table 2 in Final Implementation Priority 1 for the needs assessment. Paragraph (3) of Final Implementation Priority 1 requires applicants to describe how the data were used to ensure that children receive the appropriate services from the continuum of solutions. Implementation applicants must accurately describe their needs assessment and segmentation analysis process. Under the design of the Promise Neighborhoods program, applicants are expected to complete a rigorous needs assessment during the planning phase and collect baseline data during the first year of implementation. Data collection and management is a critical component of Final Implementation Priority 1, and we decline to loosen our requirements in this area as requested by the commenter.

While we appreciate the costs associated with the required data collection, activities associated with data collection and management are eligible uses of Promise Neighborhoods grant funds. Moreover, we believe that the costs and time involved in the required data collection and management activities are necessary to the overall success of Promise Neighborhoods.

Changes: None.

Implementation Priority 1

Experience, Lessons Learned, Capacity Building, and Data System

Comment: Two commenters recommended that implementation applicants describe the progress they have made on developing their longitudinal data systems and linking their systems to school-based, LEA, and State data systems. One of the commenters recommended that the Department support the implementation of longitudinal data systems that build on existing systems, rather than the creation of new systems. In light of the challenges in integrating student-level data from multiple sources, especially while abiding by privacy laws and requirements, another commenter recommended that applicants explain their progress in integrating student-level data from multiple sources. One commenter requested information regarding the Department's expectations for having the applicant's longitudinal data system in operation at the time the application is submitted or a grant is awarded.

Discussion: We expect that the data systems managed by implementation applicants will be at different stages of development. We agree with the commenters that applicants should have the flexibility to build upon an existing data system or create a new system, and are changing paragraph (4)(b) in the Implementation Priority 1 accordingly. We also believe that each implementation applicant should describe its progress in implementing its longitudinal data system, including the progress it has made in linking its system to school-based, LEA, and State data systems, and integrating student-level data from multiple sources. We will revise Implementation Priority 1 accordingly.

Changes: We have added language to paragraph (4)(b)(i) in Implementation Priority 1 to require an implementation applicant to describe progress toward developing and implementing its data system and in integrating student-level data from multiple sources. We also have added language to paragraph (4)(b)(ii) of this priority to require each implementation applicant to describe how it has linked or made progress to link its longitudinal data system to school-based, LEA, and State data systems.

Final Implementation Priority 4

Comprehensive Local Early Learning Network

Comment: None.

Discussion: After internal review, we noted that the NPP encouraged, but did not require the implementation plan for a high-quality and comprehensive local early learning network to reflect input from a broad range of stakeholders. We intend to require the plan to reflect such input because we believe that diverse viewpoints will strengthen the final product.

Changes: We changed “should” to “must” to specify that the implementation plan for a high-quality and comprehensive local early learning network is required to reflect input from a broad range of stakeholders.

Implementation Optional Supplemental Funding Opportunity

Comment: Several commenters expressed their support for the Optional Supplemental Funding Opportunity from the Department of Justice (DOJ) and recommended that the Department require similar alignment with other programs and initiatives, both within the Department of Education and with other Federal agencies.

Discussion: We agree with the commenters that it is important to create opportunities for alignment and funding opportunities among multiple programs and Federal agencies and will continue pursuing such opportunities in the future. Moreover, paragraph (4)(e) in the Planning Priority 1 and Implementation Priority 1 require applicants to describe their experience integrating funding streams from multiple sources. We believe this approach better supports organizations pursuing comprehensive, cradle-through-college-to-career strategies to revitalize neighborhoods.

Changes: None.

Comment: One commenter recommended that we revise the Optional Supplemental Funding Opportunity to provide more flexibility in an implementation applicant's public safety plans. Specifically, the commenter recommended allowing applicants to pursue public safety strategies that include prevention, intervention, enforcement, or a focus on the reentry of offenders, instead of the Department requiring all of these four strategies.

Discussion: The Department anticipates providing additional details regarding the Optional Supplemental Funding Opportunity in the NIA. The NIA will likely include further direction to applicants regarding the areas to be addressed in and the uses of funds to pursue a comprehensive public safety strategy, including whether or not an applicant must address all four strategies.

Changes: None.

Requirements

Planning and Implementation Grants Requirements

Eligible Applicants

Comment: One commenter recommended that the Department allow all eligible entities, not only FY 2010 Promise Neighborhoods planning grantees, to submit applications for implementation grants.

Discussion: Eligible applicants for implementation grants are not restricted to grantees that received FY 2010 Promise Neighborhoods planning grants. Applicants that did not compete for or receive a planning grant may compete for an implementation grant alongside FY 2010 planning grantees. While all eligible entities will be able to apply for implementation grants, communities that have effectively carried out the planning activities described in the FY 2010 notice inviting applications, whether independently or through a Promise Neighborhoods planning grant, are likely to be well-positioned with the plan, commitments, data, and demonstrated organizational leadership and capacity necessary to develop a quality application for an implementation grant.

Changes: None.

Other Requirements

Comment: One commenter recommended limiting the indirect cost rates that Promise Neighborhoods grantees can include in their budgets to 20 percent or less of the grant amount.

Discussion: The Department does not believe it is necessary to adopt the commenters' suggestion because it is not aware of any evidence that there is a link between indirect cost rates that are 20 percent or higher and problems with grantee performance for the Promise Neighborhoods program, or any other discretionary grant program administered by this agency. Federal agencies, including the Department, carefully negotiate indirect cost rates with grantees and believe that the negotiated rates are appropriate. Thus, grantees are allowed to spend up to that negotiated amount.

Changes: None.

Matching

Planning and Implementation Grants Matching

Comment: One commenter requested that the Department provide more information about potential match sources, including eligible and ineligible sources.

Discussion: Additional information on matching funds, including in-kind contributions, can be found in the Department's regulations at 34 CFR 74.23 and 80.24. In addition, the Department expects to issue a “frequently asked questions” guidance document that will provide information on requirements, such as the matching funds requirement.

Changes: None.

Implementation Grants Matching

Comment: One commenter requested that the Department reduce the private match requirement for implementation applicants proposing to serve rural and tribal communities from 10 percent to 5 percent.

Discussion: The Department's decision that implementation applicants demonstrate a private-sector match of at least 10 percent of the total amount of Federal funds requested is based on the determination that this amount of private support is a strong indicator of the potential for sustaining the proposed project over time. However, the Department understands the concerns raised by the commenters and points out that we will permit applicants to count in-kind contributions towards the 10 percent private sector matching requirement and to request a waiver of the matching requirement in the most exceptional circumstances. In addition, rural and tribal implementation applicants are only required to provide half the amount of total matching funds (50 percent versus 100 percent).

Changes: None.

Comment: One commenter suggested that the Department reconsider the 100 percent match requirement for implementation grants and instead consider a scaled approach that would increase the matching percentage required over time.

Discussion: The implementation grant match may include resources (cash or in-kind donations) from Federal, State, and local public agencies, philanthropic organizations, private businesses, or individuals. The Department believes that this allows sufficient flexibility for applicants to secure the full 100 percent match. We also note that rural and tribal applicants for implementation grants are only required to obtain a 50 percent match.

Changes: None.

Definitions

Planning and Implementation Grants Definitions

Education Programs

Comment: None.

Discussion: After internal review, we believe the Department must be more explicit about the requirement that the standards with which high-quality early learning programs must align are “State early learning and development” standards, as appropriate, to provide clarity and consistency for grantees.

Changes: We are revising paragraph (1) of the definition of education programs to clarify that high-quality early learning programs must align with “State early learning and development” standards, as appropriate.

Comment: One commenter recommended that the Department require applicants to describe how solutions will help young people through college and into their career.

Discussion: We agree with the commenter that the end of the cradle-through-college-to-career solutions is a critical area of focus for Promise Neighborhoods. This is especially true considering the challenges faced by many first-generation college students from distressed neighborhoods and in light of the Administration's goal that the United States lead the world in the proportion of college graduates by 2020. Therefore, we are revising the definition of education programs to focus on the transition through college and into the workforce.

Changes: We have added a new paragraph (f) in the definition of education programs that specifies that education programs include programs that support college students, including CWD and ELs, from the neighborhood to transition to college, persist in their academic studies, graduate, and transition into the workforce.

Family and Community Supports

Comment: Several commenters recommended changing the definition of family and community supports to ensure that there is a more extensive and systemic role for family and community engagement in education.

Discussion: We agree that strategies for family and community engagement in education must be integrated throughout the work of Promise Neighborhoods and, therefore, are revising the definition of family and community supports to make this clear.

Changes: We have revised paragraph (4) in the definition of family and community supports by adding language stating that family and community supports includes family and community engagement programs that are systemic, integrated, sustainable, and continue through a student's transition from K-12 school to college and career. In addition, we have added language to specify that these programs also include programs that support the engagement of families in early learning programs and services; programs that provide guidance on how to navigate through a complex school system and advocacy for more and improved learning opportunities; and programs that promote collaboration with educators and community organizations to improve opportunities for healthy development and learning.

Comment: One commenter recommended that applicants partner with organizations, such as television and radio stations that are able to distribute information about solutions through the Promise Neighborhoods.

Discussion: The definition of family and community supports includes programs that provide for the use of such community resources as libraries, museums, and local businesses to support improved student education outcomes. We agree with the commenter and will include television and radio stations as additional examples of community resources that can be used to support and distribute information about the Promise Neighborhood efforts and are making this change to the definition of family and community supports.

Changes: We have revised the definition of family and community supports to include local television and radio stations as additional examples of community resources that can support and align with family and community engagement programs.

Indian Tribe

Comment: One commenter recommended that the Department expand the definition of Indian tribe to include additional Alaskan “tribes.”

Discussion: In the NPP, the Department proposed to define the term Indian tribe to include any Indian or Alaska Native tribe, band, nation, pueblo, village or community that the Secretary of the Interior acknowledges to exist as an Indian tribe, 25 U.S.C. 479a and 479a-1. This proposed definition was consistent with the definition we used in the 2010 Promise Neighborhoods competition. However, we agree with the commenter that this definition should include Alaskan tribes and, for this reason, are revising the definition to include any Alaska Native village or regional or village corporation as defined in or established pursuant to the Alaska Native Claims Settlement Act, 43 U.S.C. 1601.

Changes: We have changed the definition of Indian tribe to include: Any Alaska Native village or regional or village corporation as defined in or established pursuant to the Alaska Native Claims Settlement Act, 43 U.S.C. 1601, et seq., that is recognized as eligible for the special programs and services provided by the United States to Indians because of their status as Indians. Also, we now specify in the definition of Indian tribe that the term “Indian” means a member of an Indian tribe.

Neighborhood

Comment: One commenter recommended that the Department expand a Promise Neighborhood to include “affinity groups.”

Discussion: The Promise Neighborhoods program is focused on geographically defined areas. Although we provide flexibility in how applicants define geographically-defined areas, which may be noncontiguous, geographical proximity and the need to serve a high percentage of children and youth within the geographic areas are important components of the program. Affinity groups, which we interpret to mean a group of people having a common interest or goal or acting together for a specific purpose, may not always be geographically-defined.

Changes: None.

Neighborhood Assets

Comment: One commenter recommended that the Department revise the definition of neighborhood assets so that the reference to “social assets” specifically includes parents and families.

Discussion: The Department agrees that parents and families are important neighborhood assets. We did not intend to exclude them but merely implied their inclusion in “community.” However, we believe that specifically including parents and families in this definition will emphasize their importance as examples of social assets and are making this change in the definition of neighborhood assets.

Changes: We have revised paragraph (5) in the definition of neighborhood assets to include “partnerships with youth, parents, and families” as an example of social assets that establish well-functioning social interactions.

Persistently Lowest-Achieving Schools

Comment: One commenter recommended that the Department broaden the definition of persistently lowest-achieving schools to include the bottom 10 percent of lowest-performing schools.

Discussion: The definition of persistently lowest achieving schools is consistent with the definition used in the Department's RTT and SIG programs. We believe that using the same definition across these programs ensures that the comprehensive education programs implemented in Promise Neighborhoods are consistent with efforts to reform low-performing schools under other programs supported by the Department. Additionally, an applicant may also propose to serve, through a Promise Neighborhoods grant, low-performing schools (as defined in the notice) that are not also persistently lowest-achieving schools, which could include a school in the neighborhood that is in the bottom 10 percent of lowest performing schools in the State.

Changes: None.

School Climate Needs Assessment

Comment: One commenter recommended that the Department modify the definition of school climate needs assessment to include one or more needs assessment tools. In particular the commenter requested that we revise the definition to explicitly require the needs assessment to assess the needs of different stakeholders, including students, staff, parents, families, and the community.

Discussion: The Department recognizes the potential difficulty in obtaining the views of multiple stakeholders regarding school climate using a single tool. However, we believe that requiring applicants to include students, staff, parents, families, and the community in its needs assessment, as recommended by the commenter, would significantly increase implementation costs. This increase in costs would result from additional costs associated with ensuring consistency in the use of the tool across Promise Neighborhoods sites. Applicants may choose to add stakeholders and tools to perform the school climate needs assessment, but at a minimum must use an evaluation tool that measures the extent to which the school setting promotes or inhibits academic performance by collecting perception data from individuals, which could include students, staff, or families.

Changes: None.

Strong Evidence

Comment: One commenter expressed support for the definitions of strong evidence and moderate evidence, as well as the reference to best available evidence.

Discussion: The tiered levels of evidence reflect the Department's efforts to balance the need to cultivate new programs with support for existing programs that have proven to be effective.

Changes: None.

Selection Criteria

General—Selection Criteria

Comment: One commenter recommended that we reorganize the selection criteria categories to include project design, schools, neighborhood experience, data and indicators, funding, and project significance.

Discussion: Each Promise Neighborhood project must have several core features: Significant need in the neighborhood for the grant services, a strategy to build a continuum of solutions with strong schools at the center, and the capacity to achieve results. We believe the selection criteria are best organized to align with these core features. Thus, the “need for project” criterion aligns with the absolute priority requirement that applicants describe the need in the neighborhood. The “quality of project design” and “quality of project services” criteria align with the absolute priority requirement that applicants describe a strategy to build a continuum of solutions with strong schools at the center. The “quality of the management plan” criterion aligns with the absolute priority requirement that applicants describe their capacity to achieve results.

Changes: None.

Planning and Implementation Grants Selection Criterion

Planning and Implementation Grants Selection Criterion 4—Quality of Management Plan

Comment: One commenter recommended that the quality of management plan criterion be revised to require applicants to describe how the applicant will hold partners accountable for outcomes.

Discussion: We agree that holding partners accountable for performance is critical to realizing the program's vision that all children and youth growing up in Promise Neighborhoods have access to great schools and strong systems of family and community support that will prepare them to attain an excellent education and successfully transition to college and a career. Therefore, we are changing the criterion accordingly.

Changes: We have revised the quality of management plan selection criterion paragraph (b)(iii) for planning and implementation applicants to require applicants to describe in their memorandum of understanding “a system for holding partners accountable.” A similar change was made in paragraph (4)(d) of Final Planning Priority 1 and Final Implementation Priority 1.

Implementation Grants Selection Criteria

Implementation Grants Selection Criterion 2—Quality of Project Design

Comment: Two commenters recommended that the selection criteria emphasize the quality and likely success of the plan, including how an applicant included neighborhood residents in its development.

Discussion: The selection criteria for implementation grants address the quality and success of the planning process, which includes resident engagement. Specifically, peer reviewers will use selection criterion (2)(b)(iv), quality of the project design, to judge applicants' experiences in integrating high-quality programs into the continuum of solutions, including during the planning process. In addition, peer reviewers will use selection criterion (4)(b)(i), quality of the management plan, to judge the applicants' work with neighborhood residents. Therefore, we do not believe a change in the selection criteria, as recommended by the commenters, is necessary.

Changes: None.

Implementation Grants Selection Criterion 3—Quality of Project Services

Comment: Two commenters recommended that implementation applicants describe their goals for improvement, as measured by the indicators.

Discussion: We agree that Promise Neighborhoods should establish goals for improving outcomes for children and youth over time and are revising the selection criterion for quality of project services, as well as Implementation Grant Priority 1 so that there is a clear focus on an applicant's improvement in achieving results as measured by the required indicators.

Changes: We have revised paragraph (3)(b)(iii) in the quality of project services selection criterion by replacing the word “changes” with the word “improvement.” Under paragraph (3)(b)(iii) we measure the extent to which the applicant describes clear, annual goals for growth on indicators. We also have revised Implementation Grant Priority 1, paragraph (3)(c) to require applicants to describe how it will collect clear, annual goals for growth on indicators.

Implementation Grants Selection Criterion 4—Quality of Management Plan

Comment: One commenter requested clarification about how an applicant's efforts to sustain and scale-up its program will be evaluated under the selection criteria.

Discussion: Applicants are required to describe their experience, lessons learned, and a plan to build capacity in several areas, including creating and strengthening formal and informal partnerships to sustain and scale up what works. Peer reviewers will consider an applicant's description of its partnerships to sustain and scale up as part of the quality of the management plan under paragraph (4)(b)(iii) of the selection criteria.

Changes: None.

Final Priorities

Final Planning Grant Priority 1 (Absolute): Proposal To Develop a Promise Neighborhood Plan

To meet this priority, an applicant must submit a proposal for how it will plan to create a Promise Neighborhood. This proposal must describe the need in the neighborhood, a strategy to build a continuum of solutions, and the applicant's capacity to achieve results. Specifically, an applicant must—

(1) Describe the geographically defined area ¹ (neighborhood) to be served and the level of distress in that area based on indicators of need and other relevant indicators. Applicants may propose to serve multiple, non-contiguous geographically defined areas. In cases where target areas are not contiguous, the applicant must explain its rationale for including non-contiguous areas;

¹ For the purposes of this notice, the Department uses the terms “geographic area” and “neighborhood” interchangeably.

(2) Describe how it will plan to build a continuum of solutions based on the best available evidence including, where available, strong or moderate evidence (as defined in this notice) designed to significantly improve educational outcomes and to support the healthy development and well-being of children and youth in the neighborhood. The applicant must also describe how it will build community support for and involvement in the development of the plan. The plan must be designed to ensure that over time, children and youth in the neighborhood who attend the target school or schools have access to a complete continuum of solutions, and ensure, as appropriate, that children and youth in the neighborhood who do not attend the target school or schools have access to solutions within the continuum of solutions. The plan must also ensure that students not living in the neighborhood who attend the target school or schools have access to solutions within the continuum of solutions.

The success of the applicant's strategy to build a continuum of solutions will be based on the results of the project, as measured against the project indicators defined in this notice and described in Table 1 and Table 2. In its strategy, the applicant must describe how it will determine which solutions within the continuum of solutions to implement, and must include—

(a) High-quality early learning programs and services designed to improve outcomes across multiple domains of early learning (as defined in this notice) for children from birth through third grade;

(b) Ambitious, rigorous, and comprehensive education reforms that are linked to improved educational outcomes for children and youth in preschool through the 12th grade. Public schools served through the grant may include persistently lowest-achieving schools (as defined in this notice) or low-performing schools (as defined in this notice) that are not also persistently lowest-achieving schools. An applicant (or one or more of its partners) may serve an effective school or schools (as defined in this notice) but only if the applicant (or one or more of its partners) also serves at least one low-performing school (as defined in this notice) or persistently lowest-achieving school (as defined in this notice). An applicant must identify in its application the public school or schools that would be served and the current status of reforms in the school or schools, including, if applicable, the type of intervention model being implemented. In cases where an applicant operates a school or partners with a school that does not serve all students in the neighborhood, the applicant must partner with at least one additional school or schools that also serves students in the neighborhood. An applicant proposing to work with a persistently lowest-achieving school must include as part of its strategy one of the four school intervention models (turnaround model, restart model, school closure, or transformation model) described in Appendix C of the Race to the Top (RTT) notice inviting applications for new awards for FY 2010 that was published in the Federal Register on November 18, 2009 (74 FR 59836, 59866).

An applicant proposing to work with a low-performing school must include, as part of its strategy, ambitious, rigorous, and comprehensive interventions to assist, augment, or replace schools, which may include implementing one of the four school intervention models, or may include another model of sufficient ambition, rigor, and comprehensiveness to significantly improve academic and other outcomes for students. An applicant proposing to work with a low-performing school must include an intervention that addresses the effectiveness of teachers and leaders and the school's use of time and resources, which may include increased learning time (as defined in this notice);

Note regarding school reform strategies: So as not to penalize an applicant for proposing to work with an LEA that has implemented rigorous reform strategies prior to the publication of this notice, an applicant is not required to propose a new reform strategy in place of an existing reform strategy in order to be eligible for a Promise Neighborhoods planning grant. For example, an LEA might have begun to implement improvement activities that meet many, but not all, of the elements of a transformation model of school intervention. In this case, the applicant could propose, as part of its Promise Neighborhood strategy, to work with the LEA as the LEA continues with its reforms.

(c) Programs that prepare students to be college- and career-ready; and

(d) Family and community supports (as defined in this notice).

To the extent feasible and appropriate, the applicant must describe, in its plan, how the applicant and its partners will leverage and integrate high-quality programs, related public and private investments, and existing neighborhood assets into the continuum of solutions.

An applicant must also describe in its plan how it will identify Federal, State, or local policies, regulations, or other requirements that would impede its ability to achieve its goals and how it will report on those impediments to the Department and other relevant agencies.

As part of the description of how it will plan to build a continuum of solutions, the applicant must describe how it will participate in, organize, or facilitate, as appropriate, communities of practice (as defined in this notice) for Promise Neighborhoods.

(3) Specify how it will conduct a comprehensive needs assessment and segmentation analysis of children and youth in the neighborhood during the planning grant project period and explain how it will use this needs assessment and segmentation analysis to determine the children with the highest needs and ensure that those children receive the appropriate services from the continuum of solutions. In this explanation of how it will use the needs assessment and segmentation analysis, the applicant must identify and describe in the application both the educational indicators and the family and community support indicators that the applicant will use in conducting the needs assessment during the planning year. During the planning year, the applicant must—

(a) Collect data for the educational indicators listed in Table 1 and use them as both program and project indicators;

(b) Collect data for the family and community support indicators in Table 2 and use them as program indicators; and

(c) Collect data for unique family and community support indicators, developed by the applicant, that align with the goals and objectives of projects and use them as project indicators or use the indicators in Table 2 as project indicators.

Note: Planning grant applicants are not required to propose solutions in their applications; however, they are required to describe how they will identify solutions, including the use of available evidence, during the planning year that will result in improvements on the project indicators.

Table 1—Education Indicators and Results They Are Intended to Measure
Indicator | Result
—# and % of children birth to kindergarten entry who have a place where they usually go, other than an emergency room, when they are sick or in need of advice about their health | Children enter kindergarten ready to succeed in school.
—# and % of three-year-olds and children in kindergarten who demonstrate at the beginning of the program or school year age-appropriate functioning across multiple domains of early learning (as defined in this notice) as determined using developmentally appropriate early learning measures (as defined in this notice)
—# & % of children, from birth to kindergarten entry, participating in center-based or formal home-based early learning settings or programs, which may include Early Head Start, Head Start, child care, or preschool
—# & % of students at or above grade level according to State mathematics and reading or language arts assessments in at least the grades required by the ESEA (3rd through 8th and once in high school) | Students are proficient in core academic subjects.
—Attendance rate of students in 6th, 7th, 8th, and 9th grade | Students successfully transition from middle school grades to high school.
—Graduation rate (as defined in this notice) | Youth graduate from high school.
—# & % of Promise Neighborhood students who graduate with a regular high school diploma, as defined in 34 CFR 200.19(b)(1)(iv), and obtain postsecondary degrees, vocational certificates, or other industry-recognized certifications or credentials without the need for remediation | High school graduates obtain a postsecondary degree, certification, or credential.

Table 2—Family and Community Support Indicators and Results They Are Intended To Measure:
Indicator | Result
—# & % of children who participate in at least 60 minutes of moderate to vigorous physical activity daily; and —# & % of children who consume five or more servings of fruits and vegetables daily; or | Students are healthy.
—possible third indicator, to be determined (TBD) by applicant
—# & % of students who feel safe at school and traveling to and from school, as measured by a school climate needs assessment (as defined in this notice); or | Students feel safe at school and in their community.
—possible second indicator, TBD by applicant
—Student mobility rate (as defined in this notice); or | Students live in stable communities.
—possible second indicator, TBD by applicant
—For children birth to kindergarten entry, the # and % of parents or family members who report that they read to their child three or more times a week; | Families and community members support learning in Promise Neighborhood schools.
—For children in kindergarten through the eighth grade, the # and % of parents or family members who report encouraging their child to read books outside of school; and
—For children in the ninth through twelfth grades, the # and % of parents or family members who report talking with their child about the importance of college and career; or
—possible fourth indicator TBD by applicant
—# & % of students who have school and home access (and % of the day they have access) to broadband internet (as defined in this notice) and a connected computing device; or | Students have access to 21st century learning tools.
—possible second indicator TBD by applicant

Note: The indicators in Table 1 and Table 2 are not intended to limit an applicant from collecting and using data for additional indicators. Examples of additional indicators are—

(i) The # and % of children who participate in high-quality learning activities during out-of-school hours or in the hours after the traditional school day ends;

(ii) The # and % of children who are suspended or receive discipline referrals during the school year;

(iii) The share of housing stock in the geographically defined area that is rent-protected, publicly assisted, or targeted for redevelopment with local, State, or Federal funds; and

(iv) The # and % of children who are homeless or in foster care and who have an assigned adult advocate.

Note: While the Department believes there are many programmatic benefits of collecting data on every child in the proposed neighborhood, the Department will consider requests to collect data on only a sample of the children in the neighborhood for some indicators so long as the applicant describes in its application how it would ensure the sample would be representative of the children in the neighborhood.

(4) Describe the experience and lessons learned, and describe how the applicant will build the capacity of its management team and project director in all of the following areas:

(a) Working with the neighborhood and its residents, including parents and families that have children or other family members with disabilities or ELs, as well as with the school(s) described in paragraph (2) of this priority; the LEA in which the school or schools are located; Federal, State, and local government leaders; and other service providers.

(b) Collecting, analyzing, and using data for decision-making, learning, continuous improvement, and accountability. The applicant must describe—

(i) Its proposal to plan to build, adapt, or expand a longitudinal data system that integrates student-level data from multiple sources in order to measure progress on educational and family and community support indicators for all children in the neighborhood, disaggregated by the subgroups listed in section 1111(b)(3)(C)(xiii) of the ESEA;

(ii) How the applicant will link the longitudinal data system to school-based, LEA, and State data systems; make the data accessible to parents, families, community residents, program partners, researchers, and evaluators while abiding by Federal, State, and other privacy laws and requirements; and manage and maintain the system;

(iii) How the applicant will use rapid-time (as defined in this notice) data both in the planning year and, once the Promise Neighborhood strategy is implemented, for continuous program improvement; and

(iv) How the applicant will document the planning process, including by describing lessons learned and best practices;

(c) Creating formal and informal partnerships, for such purposes as providing solutions along the continuum of solutions and attaining resources to sustain and scale up what works. An applicant, as part of its application, must submit a preliminary memorandum of understanding, signed by each organization or agency with which it would partner in planning the proposed Promise Neighborhood. The preliminary memorandum of understanding must describe—

(i) Each partner's financial and programmatic commitment; and

(ii) How each partner's existing vision, theory of change (as defined in this notice), theory of action (as defined in this notice), and existing activities align with those of the proposed Promise Neighborhood strategy;

(d) The governance structure proposed for the Promise Neighborhood, including a system for holding partners accountable, how the eligible entity's governing board or advisory board is representative of the geographic area proposed to be served (as defined in this notice), and how residents of the geographic area would have an active role in the organization's decision-making; and

(e) Securing and integrating funding streams from multiple public and private sources from the Federal, State, and local level. Examples of public funds include Federal resources from the U.S. Department of Education, such as the 21st Century Community Learning Centers program and title I of the ESEA, and from other Federal agencies, such as the U.S. Departments of Health and Human Services, Housing and Urban Development, Justice, Labor, and Treasury.

(5) Describe the applicant's commitment to work with the Department, and with a national evaluator for Promise Neighborhoods or another entity designated by the Department, to ensure that data collection and program design are consistent with plans to conduct a rigorous national evaluation of the Promise Neighborhoods program and of specific solutions and strategies pursued by individual grantees. This commitment must include, but need not be limited to—

(a) Ensuring that, through memoranda of understanding with appropriate entities, the national evaluator and the Department have access to relevant program and project data (e.g., administrative data and program and project indicator data), including data on a quarterly basis if requested by the Department;

(b) Developing, in consultation with the national evaluator, an evaluation strategy, including identifying a credible comparison group; and

(c) Developing, in consultation with the national evaluator, a plan for identifying and collecting reliable and valid baseline data for both program participants and a designated comparison group of non-participants.

Final Planning Grant Priority 2 (Absolute): Promise Neighborhoods in Rural Communities

To meet this priority, an applicant must propose to develop a plan for implementing a Promise Neighborhood strategy that (1) meets all of the requirements in Absolute Priority 1; and (2) proposes to serve one or more rural communities only.

Final Planning Grant Priority 3 (Absolute): Promise Neighborhoods in Tribal Communities

To meet this priority, an applicant must propose to develop a plan for implementing a Promise Neighborhood strategy that (1) meets all of the requirements in Absolute Priority 1; and (2) proposes to serve one or more Indian tribes (as defined in this notice).

Final Planning Grant Priority 4: Comprehensive Local Early Learning Network

To meet this priority, an applicant must propose to develop a plan to expand, enhance, or modify an existing network of early learning programs and services to ensure that they are high-quality and comprehensive for children from birth through the third grade. The plan must also ensure that the network establishes a high standard of quality across early learning settings and is designed to improve outcomes across multiple domains of early learning. Distinct from the early learning solutions described in paragraph (2) of Absolute Priority 1, this priority supports proposals to develop plans that integrate various early learning services and programs in the neighborhood in order to enhance the quality of such services and programs, i.e., school-based early learning programs; locally- or State-funded preschool programs; Early Head Start and Head Start; the local child care resource and referral agency, if applicable; Individuals with Disabilities Education Act (IDEA) services and programs; services through private providers; home visiting programs; public and private child care providers that are licensed by the State, including public and private providers and center-based care; and family, friend, or neighbor care in the Promise Neighborhood.

The local early learning network must address or incorporate ongoing State-level efforts regarding the major components of high-quality early learning programs and services, such as State early learning and development standards, program quality standards, comprehensive assessment systems, workforce and professional development systems, health promotion, family and community engagement, a coordinated data infrastructure, and a method of measuring, monitoring, evaluating, and improving program quality. For example, an applicant might address how the Promise Neighborhoods project will use the State's early learning standards, as applicable, and the Head Start Child Development and Early Learning Framework (Framework), as applicable, to define the expectations of what children should know and be able to do before entering kindergarten. The Framework is available on the Office of Head Start's Web site at: http://eclkc.ohs.acf.hhs.gov/hslc/ecdh/eecd/Assessment/Child%20Outcomes/HS_Revised_Child_Outcomes_Framework.pdf. Similarly, an applicant that addresses this priority must discuss, where applicable, how it would align with the State's Quality Rating and Improvement System (QRIS), as applicable, professional development and workforce infrastructure, and other appropriate State efforts. In addition, the proposal must describe how the project will provide, to the extent practicable, early learning opportunities on multiple platforms (e.g., public television, web-based) and in multiple locations (e.g., at home, at school, and at other community locations.)

Note regarding accessibility of early learning programs and services: These early learning opportunities must be fully accessible to individuals with disabilities, including individuals who are blind or have low vision; otherwise, the plans must describe how accommodations or modifications will be provided to ensure that the benefits of the early learning opportunities are provided to children and youth with disabilities in an equally effective and equally integrated manner.

The proposal to develop a plan for a high-quality and comprehensive local early learning network must describe the governance structure and how the applicant will use the planning year to plan solutions that address the major components of high-quality early learning programs and services as well as establish goals, strategies, and benchmarks to provide early learning programs and services that result in improved outcomes across multiple domains of early learning (as defined in this notice). An applicant addressing this priority must designate an individual responsible for overseeing and integrating the early learning initiatives and must include a resume or position description and other supporting documentation to demonstrate that the individual designated, or individual hired to carry out those responsibilities, possesses the appropriate State certification, and has experience and expertise in managing and administering high-quality early learning programs, including in coordinating across various high-quality early learning programs and services.

Final Planning Grant Priority 5: Quality Internet Connectivity

To meet this priority, an applicant must propose to develop a plan to ensure that almost all students in the geographic area proposed to be served have broadband Internet access (as defined in this notice) at home and at school, the knowledge and skills to use broadband Internet access effectively, and a connected computing device to support schoolwork.

Final Planning Grant Priority 6: Arts and Humanities

To meet this priority, an applicant must propose to develop a plan to include opportunities for children and youth to experience and participate actively in the arts and humanities in their community so as to broaden, enrich, and enliven the educational, cultural, and civic experiences available in the neighborhood. Applicants may propose to develop plans for offering these activities in school and in out-of-school settings and at any time during the calendar year.

Final Planning Grant Priority 7: Quality Affordable Housing

To meet this priority, an applicant must propose to serve geographic areas that were the subject of an affordable housing transformation pursuant to a Choice Neighborhoods or HOPE VI grant awarded by the U.S. Department of Housing and Urban Development during FY 2009 or later years. To be eligible under this priority, the applicant must either (1) be able to demonstrate that it has received a Choice Neighborhoods or HOPE VI grant or (2) provide, in its application, a memorandum of understanding between it and a partner that is a recipient of Choice Neighborhoods or HOPE VI grant. The memorandum must indicate a commitment on the part of the applicant and partner to coordinate planning and align resources to the greatest extent practicable.

Final Planning Grant Priority 8: Family Engagement in Learning Through Adult Education

To meet this priority, an applicant must propose to develop a plan that is coordinated with adult education providers serving neighborhood residents, such as those funded through the Adult Education and Family Literacy Act, as amended. Coordinated services may include adult basic and secondary education and programs that provide training and opportunities for family members and other members of the community to support student learning and establish high expectations for student educational achievement. Examples of services and programs include preparation for the General Education Development (GED) test; English literacy, family literacy, and work-based literacy training; or other training that prepares adults for postsecondary education and careers or supports adult engagement in the educational success of children and youth in the neighborhood.

Final Implementation Grant Priorities

Final Implementation Grant Priority 1 (Absolute): Submission of Promise Neighborhood Plan

To meet this priority, an applicant must submit a plan to create a Promise Neighborhood. The plan must describe the need in the neighborhood, a strategy to build a continuum of solutions, and the applicant's capacity to achieve results. Specifically, an applicant must—

(1) Describe the geographically defined area ² (neighborhood) to be served and the level of distress in that area based on indicators of need and other relevant indicators. The statement of need in the neighborhood must be based, in part, on results of a comprehensive needs assessment and segmentation analysis (as defined in this notice). Applicants may propose to serve multiple, non-contiguous geographically defined areas. In cases where target areas are not contiguous, the applicant must explain its rationale for including non-contiguous areas;

² For the purposes of this notice, the Department uses the terms “geographic area” and “neighborhood” interchangeably.

(2) Describe the applicant's strategy for building a continuum of solutions over time that addresses neighborhood challenges as identified in the needs assessment and segmentation analysis. The applicant must also describe how it has built community support for and involvement in the development of the plan. The continuum of solutions must be based on the best available evidence including, where available, strong or moderate evidence (as defined in this notice), and be designed to significantly improve educational outcomes and to support the healthy development and well-being of children and youth in the neighborhood. The strategy must be designed to ensure that over time, a greater proportion of children and youth in the neighborhood who attend the target school or schools have access to a complete continuum of solutions, and must ensure that over time, a greater proportion of children and youth in the neighborhood who do not attend the target school or schools have access to solutions within the continuum of solutions. The strategy must also ensure that, over time, students not living in the neighborhood who attend the target school or schools have access to solutions within the continuum of solutions.

The success of the applicant's strategy to build a continuum of solutions will be based on the results of project, as measured against the project indicators as defined in this notice and described in Table 1 and Table 2. In its strategy, the applicant must propose clear and measurable annual goals during the grant period against which improvements will be measured using the indicators. The strategy must—

(a) Identify each solution that the project will implement within the proposed continuum of solutions, and must include—

(i) High-quality early learning programs and services designed to improve outcomes across multiple domains of early learning (as defined in this notice) for children from birth through third grade;

(ii) Ambitious, rigorous, and comprehensive education reforms that are linked to improved educational outcomes for children and youth in preschool through the 12th grade. Public schools served through the grant may include persistently lowest-achieving schools (as defined in this notice) or low-performing schools (as defined in this notice) that are not also persistently lowest-achieving schools. An applicant (or one or more of its partners) may serve an effective school or schools (as defined in this notice) but only if the applicant (or one or more of its partners) also serves at least one low-performing school (as defined in this notice) or persistently lowest-achieving school (as defined in this notice). An applicant must identify in its application the public school or schools it would serve and describe the current status of reforms in the school or schools, including, if applicable, the type of intervention model being implemented. In cases where an applicant operates a school or partners with a school that does not serve all students in the neighborhood, the applicant must partner with at least one additional school that also serves students in the neighborhood. An applicant proposing to work with a persistently lowest-achieving school must include in its strategy one of the four school intervention models (turnaround model, restart model, school closure, or transformation model) described in Appendix C of the Race to the Top (RTT) notice inviting applications for new awards for FY 2010 that was published in the Federal Register on November 18, 2009 (74 FR 59836, 59866).

An applicant proposing to work with a low-performing school must include in its strategy ambitious, rigorous, and comprehensive interventions to assist, augment, or replace schools, which may include implementing one of the four school intervention models, or may include another model of sufficient ambition, rigor, and comprehensiveness to significantly improve academic and other outcomes for students. An applicant proposing to work with a low-performing school must include in its strategy an intervention that addresses the effectiveness of teachers and leaders and the school's use of time and resources, which may include increased learning time (as defined in this notice);

Note regarding school reform strategies: So as not to penalize an applicant for proposing to work with an LEA that has implemented rigorous reform strategies prior to the publication of this notice, an applicant is not required to propose a new reform strategy in place of an existing reform strategy in order to be eligible for a Promise Neighborhoods implementation grant. For example, an LEA might have begun to implement improvement activities that meet many, but not all, of the elements of a transformation model of school intervention. In this case, the applicant could propose, as part of its Promise Neighborhood strategy, to work with the LEA as the LEA continues with its reforms.

(iii) Programs that prepare students to be college- and career-ready; and

(iv) Family and community supports (as defined in this notice).

To the extent feasible and appropriate, the applicant must describe, in its plan, how the applicant and its partners will leverage and integrate high-quality programs, related public and private investments, and existing neighborhood assets into the continuum of solutions. An applicant must also include in its application an appendix that summarizes the evidence supporting each proposed solution and describes how the solution is based on the best available evidence, including, where available, strong or moderate evidence (as defined in this notice). An applicant must also describe in the appendix how and when—during the implementation process—the solution will be implemented; the partners that will participate in the implementation of each solution (in any case in which the applicant does not implement the solution directly); the estimated per-child cost, including administrative costs, to implement each solution; the estimated number of children, by age, in the neighborhood who will be served by each solution and how a segmentation analysis was used to target the children and youth to be served; and the source of funds that will be used to pay for each solution. In the description of the estimated number of children to be served, the applicant must include the percentage of all children of the same age group within the neighborhood proposed to be served with each solution, and the annual goals required to increase the proportion of children served to reach scale over time.

An applicant must also describe in its plan how it will identify Federal, State, or local policies, regulations, or other requirements that would impede its ability to achieve its goals and how it will report on those impediments to the Department and other relevant agencies.

As appropriate, considering the time and urgency required to dramatically improve outcomes of children and youth in our most distressed neighborhoods and to transform those neighborhoods, applicants must establish both short-term and long-term goals to measure progress.

As part of the description of its strategy to build a continuum of solutions, the applicant must also describe how it will participate in, organize, or facilitate, as appropriate, communities of practice for Promise Neighborhoods;

(b) Establish clear, annual goals for evaluating progress in improving systems, such as changes in policies, environments, or organizations that affect children and youth in the neighborhood. Examples of systems change could include a new school district policy to measure the results of family and community support programs, a new funding resource to support the Promise Neighborhoods strategy, or a cross-sector collaboration at the city level to break down municipal agency “silos” and partner with local philanthropic organizations to drive achievement of a set of results; and

(c) Establish clear, annual goals for evaluating progress in leveraging resources, such as the amount of monetary or in-kind investments from public or private organizations to support the Promise Neighborhoods strategy. Examples of leveraging resources are securing new or existing dollars to sustain and scale up what works in the Promise Neighborhood or integrating high-quality programs in the continuum of solutions. Applicants may consider, as part of their plans to scale up their Promise Neighborhood strategy, serving a larger geographic area by partnering with other applicants to the Promise Neighborhoods program from the same city or region;

(3) Explain how it used its needs assessment and segmentation analysis to determine the children with the highest needs and explain how it will ensure that children in the neighborhood receive the appropriate services from the continuum of solutions. In this explanation of how it used the needs assessment and segmentation analysis, the applicant must identify and describe in its application the educational indicators and family and community support indicators that the applicant used to conduct the needs assessment. Whether or not the implementation grant applicant received a Promise Neighborhoods planning grant, the applicant must describe how it—

(a) Collected data for the educational indicators listed in Table 1 and used them as both program and project indicators;

(b) Collected data for the family and community support indicators in Table 2 and used them as program indicators; and

(c) Collected data for unique family and community support indicators, developed by the applicant, that align with the goals and objectives of the project and used them as project indicators or used the indicators in Table 2 as project indicators.

An applicant must also describe how it will collect at least annual data on the indicators in Tables 1 and 2; establish clear, annual goals for growth on indicators; and report those data to the Department.

Table 1—Education Indicators and Results They Are Intended To Measure
Indicator | Result
—# and % of children birth to kindergarten entry who have a place where they usually go, other than an emergency room, when they are sick or in need of advice about their health | Children enter kindergarten ready to succeed in school.
—# and % of three-year-olds and children in kindergarten who demonstrate at the beginning of the program or school year age-appropriate functioning across multiple domains of early learning (as defined in this notice) as determined using developmentally appropriate early learning measures (as defined in this notice)
—# & % of children, from birth to kindergarten entry, participating in center-based or formal home-based early learning settings or programs, which may include Early Head Start, Head Start, child care, or preschool
—# & % of students at or above grade level according to State mathematics and reading or language arts assessments in at least the grades required by the ESEA (3rd through 8th and once in high school) | Students are proficient in core academic subjects.
—Attendance rate of students in 6th, 7th, 8th, and 9th grade. | Students successfully transition from middle school grades to high school.
—Graduation rate (as defined in this notice). | Youth graduate from high school.
—# & % of Promise Neighborhood students who graduate with a regular high school diploma, as defined in 34 CFR 200.19(b)(1)(iv), and obtain postsecondary degrees, vocational certificates, or other industry-recognized certifications or credentials without the need for remediation | High school graduates obtain a postsecondary degree, certification, or credential.

Table 2—Family and Community Support Indicators and Results They Are Intended To Measure
Indicator | Result
—# & % of children who participate in at least 60 minutes of moderate to vigorous physical activity daily; and | Students are healthy.
—# & % of children who consume five or more servings of fruits and vegetables daily; or
—possible third indicator, to be determined (TBD) by applicant..
—# & % of students who feel safe at school and traveling to and from school, as measured by a school climate needs assessment (as defined in this notice); or | Students feel safe at school and in their community.
—possible second indicator, TBD by applicant.
—Student mobility rate (as defined in this notice); or | Students live in stable communities.
—possible second indicator, TBD by applicant.
—For children birth to kindergarten entry, the # and % of parents or family members who report that they read to their child three or more times a week; | Families and community members support learning in Promise Neighborhood schools.
—For children in the kindergarten through eighth grades, the # and % of parents or family members who report encouraging their child to read books outside of school; and
—For children in the ninth through twelfth grades, the # and % of parents or family members who report talking with their child about the importance of college and career; or
—possible fourth indicator TBD by applicant.
—# & % of students who have school and home access (and % of the day they have access) to broadband internet (as defined in this notice) and a connected computing device; or | Students have access to 21st century learning tools.
—possible second indicator TBD by applicant.

Note: The indicators in Table 1 and Table 2 are not intended to limit an applicant from collecting and using data for additional indicators. Examples of additional indicators are—

(i) The # and % of children who participate in high-quality learning activities during out-of-school hours or in the hours after the traditional school day ends;

(ii) The # and % of students who are suspended or receive discipline referrals during the year;

(iii) The share of housing stock in the geographically defined area that is rent-protected, publicly assisted, or targeted for redevelopment with local, State, or Federal funds; and

(iv) The # and % of children who are homeless or in foster care and who have an assigned adult advocate.

Note: While the Department believes there are many programmatic benefits of collecting data on every child in the proposed neighborhood, the Department will consider requests to collect data on only a sample of the children in the neighborhood for some indicators so long as the applicant describes in its application how it would ensure the sample would be representative of the children in the neighborhood;

(4) Describe the experience and lessons learned, and describe how the applicant will build the capacity of its management team and project director in all of the following areas:

(a) Working with the neighborhood and its residents, including parents and families that have children or other members with disabilities or ELs, as well as with the schools described in paragraph (2) of this priority; the LEA in which the school or schools are located; Federal, State, and local government leaders; and other service providers.

(b) Collecting, analyzing, and using data for decision-making, learning, continuous improvement, and accountability. The applicant must describe—

(i) Progress towards developing, launching, and implementing a longitudinal data system that integrates student-level data from multiple sources in order to measure progress on educational and family and community support indicators for all children in the neighborhood, disaggregated by the subgroups listed in section 1111(b)(3)(C)(xiii) of the ESEA;

(ii) How the applicant has linked or made progress to link the longitudinal data system to school-based, LEA, and State data systems; made the data accessible to parents, families, community residents, program partners, researchers, and evaluators while abiding by Federal, State, and other privacy laws and requirements; and managed and maintained the system;

(iii) How the applicant has used rapid-time (as defined in this notice) data in prior years and, how it will continue to use those data once the Promise Neighborhood strategy is implemented, for continuous program improvement; and

(iv) How the applicant will document the implementation process, including by describing lessons learned and best practices.

(c) Creating and strengthening formal and informal partnerships, for such purposes as providing solutions along the continuum of solutions and committing resources to sustaining and scaling up what works. Each applicant must submit, as part of its application, a memorandum of understanding, signed by each organization or agency with which it would partner in implementing the proposed Promise Neighborhood. The memorandum of understanding must describe—

(i) Each partner's financial and programmatic commitment; and

(ii) How each partner's existing vision, theory of change (as defined in this notice), theory of action (as defined in this notice), and current activities align with those of the proposed Promise Neighborhood;

(d) The governance structure proposed for the Promise Neighborhood, including a system for holding partners accountable, how the eligible entity's governing board or advisory board is representative of the geographic area proposed to be served (as defined in this notice), and how residents of the geographic area would have an active role in the organization's decision-making.

(e) Integrating funding streams from multiple public and private sources from the Federal, State, and local level. Examples of public funds include Federal resources from the U.S. Department of Education, such as the 21st Century Community Learning Centers program and title I of the ESEA, and from other Federal agencies, such as the U.S. Departments of Health and Human Services, Housing and Urban Development, Justice, Labor, and Treasury.

(5) Describe the applicant's commitment to work with the Department, and with a national evaluator for Promise Neighborhoods or another entity designated by the Department, to ensure that data collection and program design are consistent with plans to conduct a rigorous national evaluation of the Promise Neighborhoods program and of specific solutions and strategies pursued by individual grantees. This commitment must include, but need not be limited to—

(a) Ensuring that, through memoranda of understanding with appropriate entities, the national evaluator and the Department have access to relevant program and project data sources (e.g., administrative data and program and project indicator data), including data on a quarterly basis if requested by the Department;

(b) Developing, in consultation with the national evaluator, an evaluation strategy, including identifying a credible comparison group (as defined in this notice); and

(c) Developing, in consultation with the national evaluator, a plan for identifying and collecting reliable and valid baseline data for both program participants and a designated comparison group of non-participants.

Final Implementation Grant Priority 2 (Absolute): Promise Neighborhoods in Rural Communities

To meet this priority, an applicant must propose to implement a Promise Neighborhood strategy that (1) meets all of the requirements in Absolute Priority 1; and (2) serves one or more rural communities only.

Final Implementation Grant Priority 3 (Absolute): Promise Neighborhoods in Tribal Communities

To meet this priority, an applicant must propose to implement a Promise Neighborhood strategy that (1) meets all of the requirements in Absolute Priority 1; and (2) serves one or more Indian tribes (as defined in this notice).

Final Implementation Grant Priority 4: Comprehensive Local Early Learning Network

To meet this priority, applications must include plans that propose to expand, enhance, or modify an existing network of early learning programs and services to ensure that they are high-quality and comprehensive for children from birth through the third grade. The plan must also ensure that the network establishes a high standard of quality across early learning settings and is designed to improve outcomes across multiple domains of early learning. Distinct from the early learning solutions described in paragraph (2) of Absolute Priority 1, this priority supports implementation plans that integrate various early learning services and programs in the neighborhood, i.e., school-based early learning programs in order to enhance the quality of such services and programs; locally- or State-funded preschool programs; Early Head Start and Head Start programs; the local child care resource and referral agency, if applicable; IDEA services and programs; services through private providers; home visiting programs; child care providers licensed by the State, including public and private providers and center-based care; and family, friend, or neighbor care in the Promise Neighborhood.

The early learning network must address or incorporate ongoing State-level efforts regarding the major components of high-quality early learning programs and services, such as State early learning and development standards, program quality standards, comprehensive assessment systems, workforce and professional development systems, health promotion, family and community engagement, a coordinated data infrastructure, and a method of measuring, monitoring, evaluating, and improving program quality. For example, an applicant might address how the Promise Neighborhoods project will use the State's early learning standards, as applicable, and the Head Start Child Development and Early Learning Framework (Framework), as applicable, to define the expectations of what children should know and be able to do before entering kindergarten. The Framework is available on the Office of Head Start's Web site at: http://eclkc.ohs.acf.hhs.gov/hslc/ecdh/eecd/Assessment/Child%20Outcomes/HS_Revised_Child_Outcomes_Framework.pdf. Similarly, an applicant that addresses this priority must discuss, where applicable, how it would align with the State's Quality Rating and Improvement System (QRIS), as applicable, professional development and workforce infrastructure, and other appropriate State efforts. In addition, the plan must include, to the extent practicable, early learning opportunities on multiple platforms (e.g., public television, web-based, etc.) and in multiple locations (e.g., at home, at school, and at other community locations).

Note regarding accessibility of early learning programs and services: These early learning opportunities must be fully accessible to individuals with disabilities, including individuals who are blind or have low vision; otherwise, the plans must describe how accommodations or modifications will be provided to ensure that the benefits of the early learning opportunities are provided to children and youth with disabilities in an equally effective and equally integrated manner.

The implementation plan for a high-quality and comprehensive local early learning network must describe the governance structure and the major components of high-quality early learning programs and services as well as include goals, strategies, and benchmarks to provide early learning programs and services that result in improvements across multiple domains of early learning. The plan must result from a needs assessment and segmentation analysis (as defined in this notice) and must reflect input from a broad range of stakeholders. An application addressing this priority must designate an individual responsible for overseeing and coordinating the early learning initiatives and must include a resume or position description and other supporting documentation to demonstrate that the individual designated, or individual hired to carry out those responsibilities, possesses the appropriate State certification, and has experience and expertise in managing and administering high-quality early learning programs, including in coordinating across various high-quality early learning programs and services.

Final Implementation Grant Priority 5: Quality Internet Connectivity

To meet this priority, an applicant must ensure that almost all students in the geographic area proposed to be served have broadband internet access (as defined in this notice) at home and at school, the knowledge and skills to use broadband internet access effectively, and a connected computing device to support schoolwork.

Final Implementation Grant Priority 6: Arts and Humanities

To meet this priority, an applicant must include in its plan opportunities for children and youth to experience and participate actively in the arts and humanities in their community so as to broaden, enrich, and enliven the educational, cultural, and civic experiences available in the neighborhood. Applicants may include plans for offering these activities in school and in out-of-school settings and at any time during the calendar year.

Final Implementation Grant Priority 7: Quality Affordable Housing

To meet this priority, an applicant must propose to serve geographic areas that were the subject of an affordable housing transformation pursuant to a Choice Neighborhoods or HOPE VI grant awarded by the U.S. Department of Housing and Urban Development during FY 2009 or later years. To be eligible under this priority, the applicant must either (1) be able to demonstrate that it has received a Choice Neighborhoods or HOPE VI grant or (2) provide, in its application, a memorandum of understanding between it and a partner that is a recipient of a Choice Neighborhoods or HOPE VI grant. The memorandum must indicate a commitment on the part of the applicant and partner to coordinate implementation and align resources to the greatest extent practicable.

Final Implementation Grant Priority 8: Family Engagement in Learning Through Adult Education

To meet this priority, an applicant must include plans that are coordinated with adult education providers serving neighborhood residents, such as those funded through the Adult Education and Family Literacy Act, as amended. Coordinated services may include adult basic and secondary education and programs that provide training and opportunities for family members and other members of the community to support student learning and establish high expectations for student educational achievement. Examples of services and programs include preparation for the General Education Development (GED) test; English literacy, family literacy, and work-based literacy training; or other training that prepares adults for postsecondary education and careers, or supports adult engagement in the educational success of children and youth in the neighborhood.

Optional Supplemental Funding Opportunity

The U.S. Department of Justice (DOJ) intends to provide an optional, supplemental funding opportunity for Promise Neighborhoods implementation grantees with plans that propose to analyze and resolve public safety concerns associated with violence, gangs, and illegal drugs utilizing strategies that include prevention, intervention, enforcement, and reentry of offenders back into communities upon release from prison and jail. Under this opportunity, DOJ, through an interagency agreement with the Department of Education, would provide additional funds to some Promise Neighborhoods implementation grantees. Specifically, DOJ would consider supporting Promise Neighborhoods grantees with plans that align with local leadership in implementing and sustaining innovative solutions that incorporate evidence and research into local program and policy decisions to address and reduce persistent crime. Additional information about this optional funding opportunity will be provided to Promise Neighborhoods implementation grantees after grant awards are announced.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Department establishes the following eligibility requirements for the Promise Neighborhoods program. We may apply one or more of these requirements in any year in which we conduct a competition for this program.

1. Eligible Applicants: To be eligible for a grant under this competition, an applicant must be an eligible organization (as defined in this notice). For purposes of Absolute Priority 3: Promise Neighborhoods in Tribal Communities, an eligible applicant is an eligible organization that partners with an Indian tribe or is an Indian tribe that meets the definition of an eligible organization.

2. Cost-Sharing or Matching:

(a) Planning grants. To be eligible for a planning grant under this competition, an applicant must demonstrate that it has established a commitment from one or more entities in the public or private sector, which may include Federal, State, and local public agencies, philanthropic organizations, private businesses, or individuals, to provide matching funds for the planning process. An applicant for a planning grant must obtain matching funds or in-kind donations for the planning process equal to at least 50 percent of its grant award, except that an applicant proposing a project that meets Absolute Priority 2: Promise Neighborhoods in Rural Communities or Absolute Priority 3: Promise Neighborhoods in Tribal Communities must obtain matching funds or in-kind donations equal to at least 25 percent of the grant award.

(b) Implementation Grants. To be eligible for an implementation grant under this competition, an applicant must demonstrate that it has established a commitment from one or more entities in the public or private sector, which may include Federal, State, and local public agencies, philanthropic organizations, private businesses, or individuals, to provide matching funds for the implementation process. An applicant for an implementation grant must obtain matching funds or in-kind donations equal to at least 100 percent of its grant award, except that an applicant proposing a project that meets Absolute Priority 2: Promise Neighborhoods in Rural Communities or Absolute Priority 3: Promise Neighborhoods in Tribal Communities must obtain matching funds or in-kind donations equal to at least 50 percent of the grant award.

Eligible sources of matching include sources of funds used to pay for solutions within the continuum of solutions, such as Head Start programs, initiatives supported by the LEA, or public health services for children in the neighborhood. At least 10 percent of an implementation applicant's total match must be cash or in-kind contributions from the private sector, which may include philanthropic organizations, private businesses, or individuals.

(c) Planning and Implementation Grants. Both planning and implementation applicants must demonstrate a commitment of matching funds in the applications. The applicants must specify the source of the funds or contributions and in the case of a third-party in-kind contribution, a description of how the value was determined for the donated or contributed goods or service. Applicants must demonstrate the match commitment by including letters in their applications explaining the type and quantity of the match commitment with original signatures from the executives of organizations or agencies providing the match. The Secretary may consider decreasing the matching requirement in the most exceptional circumstances, on a case-by-case basis.

An applicant that is unable to meet the matching requirement must include in its application a request to the Secretary to reduce the matching requirement, including the amount of the requested reduction, the total remaining match contribution, and a statement of the basis for the request. An applicant should review the Department's cost-sharing and cost-matching regulations, which include specific limitations in 34 CFR 74.23 applicable to non-profit organizations and institutions of higher education and 34 CFR 80.24 applicable to State, local, and Indian tribal governments, and the Office of Management and Budget (OMB) cost principles regarding donations, capital assets, depreciations and allowable costs. These circulars are available on OMB's Web site at http://www.whitehouse.gov/omb/circulars/index.html.

Final Definitions

We establish the following definitions for this program. We may apply one or more of these definitions in any year in which this program is in effect.

Broadband internet access means internet access sufficient to provide community members with the internet available when and where they need it and for the uses they require.

Children with disabilities or CWD means individuals who meet the definition of child with a disability in 34 CFR 300.8, infant or toddler with a disability in 34 CFR 300.25, handicapped person in 34 CFR 104.3(j), or disability as it pertains to an individual in 42 U.S.C. 12102.

Community of practice means a group of grantees that agrees to interact regularly to solve a persistent problem or improve practice in an area that is important to them and the success of their projects. Establishment of communities of practice under Promise Neighborhoods will enable grantees to meet, discuss, and collaborate with each other regarding grantee projects.

Continuum of cradle-through-college-to-career solutions or continuum of solutions means solutions that—

(1) Include programs, policies, practices, services, systems, and supports that result in improving educational and developmental outcomes for children from cradle through college to career;

(2) Are based on the best available evidence, including, where available, strong or moderate evidence (as defined in this notice);

(3) Are linked and integrated seamlessly (as defined in this notice); and

(4) Include both education programs and family and community supports.

Credible comparison group includes a comparison group formed by matching project participants with non-participants based on key characteristics that are thought to be related to outcomes. These characteristics include, but are not limited to: (1) Prior test scores and other measures of academic achievement (preferably the same measures that will be used to assess the outcomes of the project); (2) demographic characteristics, such as age, disability, gender, English proficiency, ethnicity, poverty level, parents' educational attainment, and single- or two-parent family background; (3) the time period in which the two groups are studied (e.g., the two groups are children entering kindergarten in the same year as opposed to sequential years); and (4) methods used to collect outcome data (e.g., the same test of reading skills administered in the same way to both groups).

Developmentally appropriate early learning measures means a range of assessment instruments that are used in ways consistent with the purposes for which they were designed and validated; appropriate for the ages and other characteristics of the children being assessed; designed and validated for use with children whose ages, cultures, languages spoken at home, socioeconomic status, abilities and disabilities, and other characteristics are similar to those of the children with whom the assessments will be used; and used in compliance with the measurement standards set forth by the American Educational Research Association (AERA), the American Psychological Association (APA), and the National Council for Measurement in Education (NCME) in the 1999 Standards for Educational and Psychological Testing.

Education programs means programs that include, but are not limited to—

(1) High-quality early learning programs or services designed to improve outcomes across multiple domains of early learning for young children. Such programs must be specifically intended to align with appropriate State early learning and development standards, practices, strategies, or activities across as broad an age range as birth through third grade so as to ensure that young children enter kindergarten and progress through the early elementary school grades demonstrating age-appropriate functioning across the multiple domains;

(2) For children in preschool through the 12th grade, programs, inclusive of related policies and personnel, that are linked to improved educational outcomes. The programs—

(a) Must include effective teachers and effective principals;

(b) Must include strategies, practices, or programs that encourage and facilitate the evaluation, analysis, and use of student achievement, student growth (as defined in this notice), and other data by educators, families, and other stakeholders to inform decision-making;

(c) Must include college- and career-ready standards, assessments, and practices, including a well-rounded curriculum, instructional practices, strategies, or programs in, at a minimum, core academic subjects as defined in section 9101(11) of the ESEA, that are aligned with high academic content and achievement standards and with high-quality assessments based on those standards; and

(d) May include creating multiple pathways for students to earn regular high school diplomas (e.g., using schools that serve the needs of over-aged, under-credited, or other students with an exceptional need for flexibility regarding when they attend school or the additional supports they require; awarding credit based on demonstrated evidence of student competency; or offering dual-enrollment options); and

(3) Programs that prepare students for college and career success, which may include programs that—

(a) Create and support partnerships with community colleges, four-year colleges, or universities and that help instill a college-going culture in the neighborhood;

(b) Provide dual-enrollment opportunities for secondary students to gain college credit while in high school;

(c) Provide, through relationships with businesses and other organizations, apprenticeship opportunities to students;

(d) Align curricula in the core academic subjects with requirements for industry-recognized certifications or credentials, particularly in high-growth sectors;

(e) Provide access to career and technical education programs so that individuals can attain the skills and industry-recognized certifications or credentials for success in their careers;

(f) Help college students, including CWD and ELs from the neighborhood to transition to college, persist in their academic studies in college, graduate from college, and transition into the workforce; and

(g) Provide opportunities for all youth (both in and out of school) to achieve academic and employment success by improving educational and skill competencies and providing connections to employers. Such activities may include opportunities for on-going mentoring, supportive services, incentives for recognition and achievement, and opportunities related to leadership, development, decision-making, citizenship, and community service.

Effective school means a school that has—

(1) Significantly closed the achievement gaps between subgroups of students (as identified in section 1111(b)(3)(C)(xiii) of the ESEA) within the school or district; or

(2)(a) Demonstrated success in significantly increasing student academic achievement in the school for all subgroups of students (as identified in section 1111(b)(3)(C)(xiii) of the ESEA) in the school; and (b) made significant improvements in other areas, such as graduation rates (as defined in this notice) or recruitment and placement of effective teachers and effective principals.

Eligible organization means an organization that—

(1) Is representative of the geographic area proposed to be served (as defined in this notice);

(2) Is one of the following:

(a) A nonprofit organization that meets the definition of a nonprofit under 34 CFR 77.1(c), which may include a faith-based nonprofit organization.

(b) An institution of higher education as defined by section 101(a) of the Higher Education Act of 1965, as amended.

(c) An Indian tribe (as defined in this notice);

(3) Currently provides at least one of the solutions from the applicant's proposed continuum of solutions in the geographic area proposed to be served; and

(4) Operates or proposes to work with and involve in carrying out its proposed project, in coordination with the school's LEA, at least one public elementary or secondary school that is located within the identified geographic area that the grant will serve.

English learners or ELs means individuals who meet the definition of limited English proficient, as defined in section 9101(25) of the ESEA.

Family and community supports means—

(1) Child and youth health programs, such as physical, mental, behavioral, and emotional health programs (e.g., home visiting programs; Early Head Start; programs to improve nutrition and fitness, reduce childhood obesity, and create healthier communities);

(2) Safety programs, such as programs in school and out of school to prevent, control, and reduce crime, violence, drug and alcohol use, and gang activity; programs that address classroom and school-wide behavior and conduct; programs to prevent child abuse and neglect; programs to prevent truancy and reduce and prevent bullying and harassment; and programs to improve the physical and emotional security of the school setting as perceived, experienced, and created by students, staff, and families;

(3) Community stability programs, such as programs that—

(a) Increase the stability of families in communities by expanding access to quality, affordable housing, providing legal support to help families secure clear legal title to their homes, and providing housing counseling or housing placement services;

(b) Provide adult education and employment opportunities and training to improve educational levels, job skills and readiness in order to decrease unemployment, with a goal of increasing family stability;

(c) Improve families' awareness of, access to, and use of a range of social services, if possible at a single location;

(d) Provide unbiased, outcome-focused, and comprehensive financial education, inside and outside the classroom and at every life stage;

(e) Increase access to traditional financial institutions (e.g., banks and credit unions) rather than alternative financial institutions (e.g., check cashers and payday lenders);

(f) Help families increase their financial literacy, financial assets, and savings; and

(g) Help families access transportation to education and employment opportunities;

(4) Family and community engagement programs that are systemic, integrated, sustainable, and continue through a student's transition from K-12 school to college and career. These programs may include family literacy programs and programs that provide adult education and training and opportunities for family members and other members of the community to support student learning and establish high expectations for student educational achievement; mentorship programs that create positive relationships between children and adults; programs that provide for the use of such community resources as libraries, museums, television and radio stations, and local businesses to support improved student educational outcomes; programs that support the engagement of families in early learning programs and services; programs that provide guidance on how to navigate through a complex school system and how to advocate for more and improved learning opportunities; and programs that promote collaboration with educators and community organizations to improve opportunities for healthy development and learning; and

(5) 21st century learning tools, such as technology (e.g., computers and mobile phones) used by students in the classroom and in the community to support their education. This includes programs that help students use the tools to develop knowledge and skills in such areas as reading and writing, mathematics, research, critical thinking, communication, creativity, innovation, and entrepreneurship.

Graduation rate means the four-year or extended-year adjusted cohort graduation rate as defined by 34 CFR 200.19(b)(1).

Note: This definition is not meant to prevent a grantee from also collecting information about the reasons why students do not graduate from the target high school, e.g., dropping out or moving outside of the school district for non-academic or academic reasons.

Increased learning time means using a longer school day, week, or year to significantly increase the total number of school hours. This strategy is used to redesign the school's program in a manner that includes additional time for (a) instruction in core academic subjects as defined in section 9101(11) of the ESEA; (b) instruction in other subjects and enrichment activities that contribute to a well-rounded education, including, for example, physical education, service learning, and experiential and work-based learning opportunities that are provided by partnering, as appropriate, with other organizations; and (c) teachers to collaborate, plan, and engage in professional development within and across grades and subjects.

Indian tribe means any Indian or Alaska Native tribe, band, nation, pueblo, village or community that the Secretary of the Interior acknowledges to exist as an Indian tribe, 25 U.S.C. 479a and 479a-1 or any Alaska Native village or regional or village corporation as defined in or established pursuant to the Alaska Native Claims Settlement Act, 43 U.S.C. 1601, et seq., that is recognized as eligible for the special programs and services provided by the United States to Indians because of their status as Indians. The term “Indian” means a member of an Indian tribe.

Indicators of need means currently available data that describe—

(1) Education need, which means—

(a) All or a portion of the neighborhood includes or is within the attendance zone of a low-performing school that is a high school, especially one in which the graduation rate (as defined in this notice) is less than 60 percent or a school that can be characterized as low-performing based on another proxy indicator, such as students' on-time progression from grade to grade; and

(b) Other indicators, such as significant achievement gaps between subgroups of students (as identified in section 1111(b)(3)(C)(xiii) of the ESEA) within a school or LEA, high teacher and principal turnover, or high student absenteeism; and

(2) Family and community support need, which means—

(a) Percentages of children with preventable chronic health conditions (e.g., asthma, poor nutrition, dental problems, obesity) or avoidable developmental delays;

(b) Immunization rates;

(c) Rates of crime, including violent crime;

(d) Student mobility rates;

(e) Teenage birth rates;

(f) Percentage of children in single-parent or no-parent families;

(g) Rates of vacant or substandard homes, including distressed public and assisted housing; or

(h) Percentage of the residents living at or below the Federal poverty threshold.

Linked and integrated seamlessly, with respect to the continuum of solutions, means solutions that have common outcomes, focus on similar milestones, support transitional time periods (e.g., the beginning of kindergarten, the middle grades, or graduation from high school) along the cradle-through-college-to-career continuum, and address time and resource gaps that create obstacles for students in making academic progress.

Low-performing schools means schools receiving assistance through title I of the Elementary and Secondary Education Act of 1965, as amended (ESEA), that are in corrective action or restructuring in the State, as determined under section 1116 of the ESEA, and the secondary schools (both middle and high schools) in the State that are equally as low-achieving as these Title I schools and are eligible for, but do not receive, Title I funds.

Moderate evidence means evidence from previous studies with designs that can support causal conclusions (i.e., studies with high internal validity) but have limited generalizability (i.e., moderate external validity) or from studies with high external validity but moderate internal validity.

Multiple domains of early learning means physical well-being and motor development; social-emotional development; approaches toward learning, which refers to the inclinations, dispositions, or styles, rather than skills, that reflect ways that children become involved in learning and develop their inclinations to pursue learning; language and literacy development, including emergent literacy; and cognition and general knowledge, which refers to thinking and problem-solving as well as knowledge about particular objects and the way the world works. Cognition and general knowledge include mathematical and scientific knowledge, abstract thought, and imagination.

Neighborhood assets means—

(1) Developmental assets that allow residents to attain the skills needed to be successful in all aspects of daily life (e.g., educational institutions, early learning centers, and health resources);

(2) Commercial assets that are associated with production, employment, transactions, and sales (e.g., labor force and retail establishments);

(3) Recreational assets that create value in a neighborhood beyond work and education (e.g., parks, open space, community gardens, and arts organizations);

(4) Physical assets that are associated with the built environment and physical infrastructure (e.g., housing, commercial buildings, and roads); and

(5) Social assets that establish well-functioning social interactions (e.g., public safety, community engagement, and partnerships with youth, parents, and families).

Persistently lowest-achieving school means, as determined by the State—

(1) Any school receiving assistance through Title I that is in improvement, corrective action, or restructuring and that—

(a) Is among the lowest-achieving five percent of Title I schools in improvement, corrective action, or restructuring or the lowest-achieving five Title I schools in improvement, corrective action, or restructuring in the State, whichever number of schools is greater; or

(b) Is a high school that has had a graduation rate that is less than 60 percent over a number of years; and

(2) Any secondary school that is eligible for, but does not receive, Title I funds that—

(a) Is among the lowest-achieving five percent of secondary schools or the lowest-achieving five secondary schools in the State that are eligible for, but do not receive, Title I funds, whichever number of schools is greater; or

(b) Is a high school that has had a graduation rate that is less than 60 percent over a number of years.

Program indicators are indicators that the Department will use only for research and evaluation purposes and for which an applicant is not required to propose solutions.

Project indicators are indicators for which an applicant proposes solutions intended to result in progress on the indicators.

Public officials means elected officials (e.g., council members, aldermen and women, commissioners, State legislators, Congressional representatives, members of the school board), appointed officials (e.g., members of a planning or zoning commission, or of any other regulatory or advisory board or commission), or individuals who are not necessarily public officials, but who have been appointed by a public official to serve on the Promise Neighborhoods governing board or advisory board.

Rapid-time, in reference to reporting and availability of locally-collected data, means that data are available quickly enough to inform current lessons, instruction, and related education programs and family and community supports.

Representative of the geographic area proposed to be served means that residents of the geographic area proposed to be served have an active role in decision-making and that at least one-third of the eligible entity's governing board or advisory board is made up of—

(1) Residents who live in the geographic area proposed to be served, which may include residents who are representative of the ethnic and racial composition of the neighborhood's residents and the languages they speak;

(2) Residents of the city or county in which the neighborhood is located but who live outside the geographic area proposed to be served, and who are low-income (which means earning less than 80 percent of the area's median income as published by the Department of Housing and Urban Development);

(3) Public officials (as defined in this notice) who serve the geographic area proposed to be served (although not more than one-half of the governing board or advisory board may be made up of public officials); or

(4) Some combination of individuals from the three groups listed in paragraphs (1), (2), and (3) of this definition.

Rural community means a neighborhood that—

(1) Is served by an LEA that is currently eligible under the Small Rural School Achievement (SRSA) program or the Rural and Low-Income School (RLIS) program authorized under Title VI, Part B of the ESEA. Applicants may determine whether a particular LEA is eligible for these programs by referring to information on the following Department Web sites. For the SRSA program: http://www.ed.gov/programs/reapsrsa/eligible10/index.html. For the RLIS program: http://www.ed.gov/programs/reaprlisp/eligible10/index.html; or

(2) Includes only schools designated with a school locale code of 42 or 43. Applicants may determine school locale codes by referring to the following Department Web site: http://nces.ed.gov/ccd/schoolsearch/.

School climate needs assessment means an evaluation tool that measures the extent to which the school setting promotes or inhibits academic performance by collecting perception data from individuals, which could include students, staff, or families.

Segmentation analysis means the process of grouping and analyzing data from children and families in the geographic area proposed to be served according to indicators of need (as defined in this notice) or other relevant indicators.

Note: The analysis is intended to allow grantees to differentiate and more effectively target interventions based on what they learn about the needs of different populations in the geographic area.

Strong evidence means evidence from studies with designs that can support causal conclusions (i.e., studies with high internal validity), and studies that, in total, include enough of the range of participants and settings to support scaling up to the State, regional, or national level (i.e., studies with high external validity).

Student achievement means—

(1) For tested grades and subjects:

(a) A student's score on the State's assessments under the ESEA; and, as appropriate,

(b) Other measures of student learning, such as those described in paragraph (2) of this definition, provided they are rigorous and comparable across classrooms and programs.

(2) For non-tested grades and subjects: Alternative measures of student learning and performance, such as student scores on pre-tests and end-of-course tests; student performance on English language proficiency assessments; and other measures of student achievement that are rigorous and comparable across classrooms.

Student growth means the change in achievement data for an individual student between two or more points in time. Growth may also include other measures that are rigorous and comparable across classrooms.

Student mobility rate is calculated by dividing the total number of new student entries and withdrawals at a school, from the day after the first official enrollment number is collected through the end of the academic year, by the first official enrollment number of the academic year.

Note: This definition is not meant to limit a grantee from also collecting information about why students enter or withdraw from the school, e.g., transferring to charter schools, moving outside of the school district for non-academic or academic reasons.

Theory of action means an organization's strategy regarding how, considering its capacity and resources, it will take the necessary steps and measures to accomplish its desired results.

Theory of change means an organization's beliefs about how its inputs, and early and intermediate outcomes, relate to accomplishing its long-term desired results.

Final Selection Criteria

We establish the following selection criteria for evaluating a planning and implementation grant application under the Promise Neighborhoods program. These criteria are designed to align with the absolute priority for planning and implementation grants. Thus, the “need for project” criterion aligns with the absolute priority requirement that applicants describe the need in the neighborhood. The “quality of project design” and “quality of project services” criteria align with the absolute priority requirement that applicants describe a strategy to build a continuum of solutions with strong schools at the center. The “quality of the management plan” criterion aligns with the absolute priority requirement that applicants describe their capacity to achieve results.

In the notice inviting applications, the application package, or both, we will announce the maximum possible points assigned to each criterion. We may apply one or more of these criteria in any year in which this program is in effect.

Final Planning Grants Selection Criteria

The selection criteria for planning grant applicants are as follows:

(1) Need for project.

(a) The Secretary considers the need for the proposed project.

(b) In determining the need for the proposed project, the Secretary considers—

(i) The magnitude or severity of the problems to be addressed by the proposed project as described by indicators of need and other relevant indicators; and

(ii) The extent to which the geographically defined area has been described.

(2) Quality of the project design.

(a) The Secretary considers the quality of the design of the proposed project.

(b) In determining the quality of the design of the proposed project, the Secretary considers—

(i) The extent to which the continuum of solutions will be aligned with an ambitious, rigorous, and comprehensive strategy for improvement of schools in the neighborhood;

(ii) The extent to which the applicant describes a proposal to plan to create a complete continuum of solutions, including early learning through grade 12, college- and career-readiness, and family and community supports, without time and resource gaps that will prepare all children in the neighborhood to attain an excellent education and successfully transition to college and a career; and

(iii) The extent to which solutions leverage existing neighborhood assets and coordinate with other efforts, including programs supported by Federal, State, local, and private funds.

(3) Quality of project services.

(a) The Secretary considers the quality of the services to be provided by the proposed project.

(b) In determining the quality of the project services, the Secretary considers—

(i) The extent to which the applicant describes how the needs assessment and segmentation analysis, including identifying and describing indicators, will be used during the planning phase to determine each solution within the continuum; and

(ii) The extent to which the applicant describes how it will determine that solutions are based on the best available evidence including, where available, strong or moderate evidence, and ensure that solutions drive results and lead to changes on indicators.

(4) Quality of the management plan.

(a) The Secretary considers the quality of the management plan for the proposed project.

(b) In determining the quality of the management plan for the proposed project, the Secretary considers the experience, lessons learned, and proposal to build capacity of the applicant's management team and project director in all of the following areas—

(i) Working with the neighborhood and its residents; the schools described in paragraph (2)(b) of Absolute Priority 1; the LEA in which those schools are located; Federal, State, and local government leaders; and other service providers;

(ii) Collecting, analyzing, and using data for decision-making, learning, continuous improvement, and accountability;

(iii) Creating formal and informal partnerships, including the alignment of the visions, theories of action, and theories of change described in its memorandum of understanding, and creating a system for holding partners accountable for performance in accordance with the memorandum of understanding; and

(iv) Integrating funding streams from multiple public and private sources, including its proposal to leverage and integrate high-quality programs in the neighborhood into the continuum of solutions.

Final Implementation Grants Selection Criteria

The selection criteria for implementation grant applicants are as follows:

(1) Need for project.

(a) The Secretary considers the need for the proposed project.

(b) In determining the need for the proposed project, the Secretary considers—

(i) The magnitude or severity of the problems to be addressed by the proposed project as described by indicators of need and other relevant indicators identified in part by the needs assessment and segmentation analysis; and

(ii) The extent to which the geographically defined area has been described.

(2) Quality of the project design.

(a) The Secretary considers the quality of the design of the proposed project.

(b) In determining the quality of the design of the proposed project, the Secretary considers the following factors:

(i) The extent to which the continuum of solutions is aligned with an ambitious, rigorous, and comprehensive strategy for improvement of schools in the neighborhood.

(ii) The extent to which the applicant describes an implementation plan to create a complete continuum of solutions, including early learning through grade 12, college- and career-readiness, and family and community supports, without time and resource gaps, that will prepare all children in the neighborhood to attain an excellent education and successfully transition to college and a career, and that will significantly increase the proportion of students in the neighborhood that are served by the complete continuum to reach scale over time.

(iii) The extent to which the applicant identifies existing neighborhood assets and programs supported by Federal, State, local, and private funds that will be used to implement a continuum of solutions.

(iv) The extent to which the applicant describes its implementation plan, including clear, annual goals for improving systems and leveraging resources as described in paragraph (2) of Absolute Priority 1.

(3) Quality of project services.

(a) The Secretary considers the quality of the services to be provided by the proposed project.

(b) In determining the quality of the project services, the Secretary considers—

(i) The extent to which the applicant describes how the needs assessment and segmentation analysis, including identifying and describing indicators, were used to determine each solution within the continuum;

(ii) The extent to which the applicant documents that proposed solutions are based on the best available evidence including, where available, strong or moderate evidence; and

(iii) The extent to which the applicant describes clear, annual goals for improvement on indicators.

(4) Quality of the management plan.

(a) The Secretary considers the quality of the management plan for the proposed project.

(b) In determining the quality of the management plan for the proposed project, the Secretary considers the experience, lessons learned, and proposal to build capacity of the applicant's management team and project director in all of the following areas—

(i) Working with the neighborhood and its residents; the schools described in paragraph (2)(b) of Absolute Priority 1; the LEA in which those schools are located; Federal, State, and local government leaders; and other service providers;

(ii) Collecting, analyzing, and using data for decision-making, learning, continuous improvement, and accountability, including whether the applicant has a plan to build, adapt, or expand a longitudinal data system that integrates student-level data from multiple sources in order to measure progress while abiding by privacy laws and requirements;

(iii) Creating formal and informal partnerships, including the alignment of the visions, theories of action, and theories of change described in its memorandum of understanding, and creating a system for holding partners accountable for performance in accordance with the memorandum of understanding; and

(iv) Integrating funding streams from multiple public and private sources, including its proposal to leverage and integrate high-quality programs in the neighborhood into the continuum of solutions.

This notice does not preclude us from proposing additional priorities, requirements, definitions, or selection criteria, subject to meeting applicable rulemaking requirements.

Note: This notice does not solicit applications. In any year in which we choose to use one or more of these proposed priorities, requirements, definitions, and selection criteria, we invite applications through a notice in the Federal Register.

Executive Order 12866: Under Executive Order 12866, the Secretary must determine whether this regulatory action is “significant” and therefore subject to the requirements of the Executive Order and subject to review by the Office of Management and Budget (OMB). Section 3(f) of Executive Order 12866 defines a “significant regulatory action” as an action likely to result in a rule that may: (1) Have an annual effect on the economy of $100 million or more, or adversely affect a sector of the economy, productivity, competition, jobs, the environment, public health or safety, or State, local, or tribal governments or communities in a material way (also referred to as an “economically significant” rule); (2) create serious inconsistency or otherwise interfere with an action taken or planned by another agency; (3) materially alter the budgetary impacts of entitlement grants, user fees, or loan programs or the rights and obligations of recipients thereof; or (4) raise novel legal or policy issues arising out of legal mandates, the President's priorities, or the principles set forth in the Executive Order. The Secretary has determined that this regulatory action is significant under section 3(f) of the Executive order.

This notice has been reviewed in accordance with Executive Order 12866. Under the terms of the order, we have assessed the potential costs and benefits of this proposed regulatory action.

The potential costs associated with this regulatory action are those resulting from statutory requirements and those we have determined as necessary for administering this program effectively and efficiently.

In assessing the potential costs and benefits—both quantitative and qualitative—of this regulatory action, we have determined that the benefits of the priorities, requirements, definitions, and selection criteria justify the costs.

We have determined, also, that this regulatory action does not unduly interfere with State, local, and tribal governments in the exercise of their governmental functions.

Intergovernmental Review: This program is subject to Executive Order 12372 and the regulations in 34 CFR Part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or computer diskette) on request to the contact person listed under FOR FURTHER INFORMATION CONTACT.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 29, 2011.
James H. Shelton, III,
Assistant Deputy Secretary for Innovation and Improvement.

[FR Doc. 2011-16757 Filed 7-5-11; 8:45 am]

BILLING CODE 4000-01-P